PENSION BENEFIT GUARANTY CORPORATION

Privacy Act of 1974; Systems of Records

AGENCY: Pension Benefit Guaranty Corporation.

ACTION: Notice of modified systems of records; notice of a rescinded system of records; notice of a new system of records.

SUMMARY: Pursuant to the Privacy Act of 1974, the Pension Benefit Guaranty Corporation (PBGC) proposes the following changes to its system of records notices to: Amend a general routine use, rescind a duplicative system of records, establish a new system of records for collection of data from the agency website, add or amend routine uses in ten systems of records, make clarifying changes to all nineteen systems of records notices, and republish all existing systems of records notices. The PBGC determined that the proposed changes were necessary after conducting the biennial review of its systems of records notices.

DATES: Comments are due by March 15, 2018. The revised and additional systems of records described herein will become effective 30 days after the date of publication, without further notice, unless comments results in a contrary determination and a notice is published to that effect.

ADDRESSES: You may submit written comments to PBGC by any of the following methods:

• Federal eRulemaking Portal: http://www.regulations.gov. Follow the website instructions for submitting comments.

• Email: reg.comments@pbgc.gov.

• Mail or Hand Delivery: Communications Outreach and Legislative Affairs Department, Pension Benefit Guaranty Corporation, 1200 K Street NW, Washington, DC 20005.

With appropriate redactions of personally identifiable information, comments received through these methods will be posted to PBGC's website, http://www.pbgc.gov. Copies of comments may also be obtained by writing to the Pension Benefit Guaranty Corporation, Disclosure Division, Office of the General Counsel, 1200 K Street NW, Washington, DC 20005, or calling 202-326-4040 during normal business hours. (TTY and TDD users may call the Federal relay service toll-free at 1-800-877-8339 and ask to be connected to 202-326-4040.)

FOR FURTHER INFORMATION CONTACT: Margaret Drake, Chief Privacy Officer, Pension Benefit Guaranty Corporation, Office of the General Counsel, 1200 K Street NW, Washington, DC 20005, 202-326-4400, extension 6435, or Nicole Moore, Attorney, Pension Benefit Guaranty Corporation, Office of the General Counsel, 1200 K Street NW, Washington, DC 20005, 202-326-4000, extension 3170. For access to any of the PBGC's systems of records, contact D. Camilla Perry, Disclosure Officer, Office of the General Counsel, Disclosure Division, 1200 K Street NW, Washington DC 20005, or by calling 202-326-4040 directly.

SUPPLEMENTARY INFORMATION:

(1) PBGC Is Proposing To Amend One General Routine Use in Its Prefatory Statement of General Routine Uses

PBGC is proposing to amend one general routine use in its Prefatory Statement of General Routine Uses. During a routine review of the General Routine Uses, PBGC determined that the language contained in General Routine Use 1—Law Enforcement should be clarified to reflect that information maintained in a PBGC system of records may be disclosed to law enforcement investigating the potential or actual violation of a statute, regulation, rule or particular program. The language will be further amended to clarify that law enforcement includes tribal entities charged with law enforcement. The amended General Routine Use will read: “G1. Routine Use—Law Enforcement: A record from this system may be disclosed to law enforcement in the event the record is connected to a violation or potential violation of law, whether civil, criminal or regulatory in nature, and whether arising by general statute, regulation, rule, or order issued pursuant thereto. Such disclosure may be made to the appropriate agency, whether Federal, State, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.”

(2) PBGC Is Proposing To Rescind PBGC-24, Participant Debt Collection

Pursuant the Privacy Act of 1974, 5 U.S.C. 552a, and as part of its ongoing improvement, integration and management efforts, PBGC is proposing to rescind the following system of records notice: PBGC-24, Participant Debt Collection (last published at 81 FR 63321 (September 14, 2016)).

With regard to PBGC-24, the Agency will continue to collect and maintain records about individuals who may owe a debt to the Agency and will rely upon an existing PBGC system of records titled PBGC-13, Debt Collection—PBGC (last published at 81 FR 63311 (September 14, 2016)), which is also written for the purpose of collecting any and all debts that be owed to the PBGC. The primary difference between the two systems of records being that PBGC-13 and PBGC-24 have different system managers.

Eliminating this notice will have no adverse impact on individuals; rather, its removal will promote the overall streamlining and management of PBGC Privacy Act system of records and reduce the likelihood of any public misunderstanding rooted in the existence of two similar notices. PBGC-13 will be clarified and amended to reflect both the existing system manager and the former system manager of PBGC-24.

(3) PBGC Is Proposing To Establish a New System of Records: PBGC-25, PBGC.GOV Comment Management System

PBGC is proposing to establish a new system of records titled, “PBGC-25, PBGC.GOV Comment Management System—PBGC.” The proposed system of records furthers the Agency's commitment to the E-Government Act of 2002 by promoting the use of electronic services, specifically, providing the public with access to proposed rulemaking and the ability to directly comment on those rules or any other area of concern directly to the Agency via comment field(s) on the PBGC.gov website. The public may also submit supporting materials related to their comments or other area of concern. This system of records may contain records of data points supplied by the user of the comment field, which may include names, addresses, phone numbers, email addresses, social security numbers, customer identification numbers, user names, internet protocol (IP) addresses or any other information entered in the comment field. In addition, this system will contain comments individuals have submitted through Regulations.gov about PBGC. While this will be a new system of records, PBGC will continue to respect the privacy of individuals using the website and comment field by encouraging users to provide the least amount of information necessary to respond to rulemaking or initiate contact with the Agency.

The collection and maintenance of these records is new. Prior to PBGC.gov, PBGC did not solicit, receive or collect rulemaking comments through its public website.

(4) PBGC Is Proposing To Add Two Routine Uses to PBGC-2, Disbursements

PBGC is proposing to add two routine uses to PBGC-2, Disbursements (last published at 81 FR 63301 (September 14, 2016)).

PBGC is proposing the addition of routine use 3, which permits the disclosure of information in this system to the Office of Personnel Management, the Office of Management and Budget, or the Government Accountability Office. This addition will facilitate oversight of payments made from PBGC to various entities, as well as promote transparency and accountability during the payment process. Routine use 3 will read: “To the Office of Personnel Management (OPM), the Office of Management and Budget (OMB), or the Government Accountability Office (GAO) when the information is required for program evaluation purposes.”

PBGC is proposing the addition of routine use 4, which permits disclosure of information to consumer reporting agencies in order to facilitate and collect claims for money or property due to PBGC. New routine use 4 will read, “A record from this system may be disclosed to a consumer reporting agency in accordance with 31 U.S.C. 3711(e).”

(5) PBGC Is Proposing To Add a Routine Use to PBGC-3, Employee Payroll, Leave, and Attendance Records

PBGC is proposing to add a routine use to PBGC-3: Employee Payroll, Leave, and Attendance Records (last published at 81 FR 63301 (September 14, 2016)). This routine use is necessary as it allows PBGC to collect claims for money or property. The new routine use will read, “A record from this system may be disclosed to a consumer reporting agency in accordance with 31 U.S.C. 3711(e).”

(6) PBGC Is Proposing To Clarify the Types of Plan Information Contained in the System, Amend Two Routine Uses and Add a Routine Use to PBGC-6, Plan Participant and Beneficiary Data

PBGC is proposing the following revisions to PBGC-6, Plan Participant and Beneficiary Data (last published at 81 FR 63303 (September 14, 2016)): Clarification of the types of plan information contained in the system; amendment of two routine uses; and, addition of one new routine use.

PBGC is proposing the clarification of the name of the type of plans records contained in the system of records. Currently, plan information is described as “pension plans.” PBGC would clarify the name of the type of plans to “retirement plans” in order to reflect the inclusion of plans that do not meet the definition of “pension plans.”

PBGC is proposing the amendment of routine use 13, which currently permits disclosure to government agencies in order to verify payment eligibility. After review of the routine use and agency practices, we have determined that information needed to verify eligibility to receive payment may be held by third parties with whom PBGC has a contractual relationship. The amended portion of routine use 13 will permit disclosure and read, “a third party with whom PBGC has a contractual relationship.” This amendment will further the purpose of the Agency by ensuring payments are made only to individuals eligible to receive such payments.

PBGC is proposing the amendment of routine use 16, which currently permits the disclosure of a beneficiary's name and date of birth to the participant. PBGC wishes to disclose additional types of beneficiary information to the participant. Amended routine use 16 will read, “With the exception of third party social security numbers, all beneficiary information contained in the participant file (such as: Names, addresses, phone numbers, email addresses and dates of birth) provided by the subject of the record may be disclosed to the subject of the record, upon written request to the Disclosure Officer in accordance with the Record Access Procedure outlined below.” Under the existing routine use, PBGC withholds all information except the name and date of birth of a beneficiary that is contained in participant's file, even though it was often the participant who provided the beneficiary's personal information (as this information is required from the participant when naming their beneficiary). By allowing PBGC to disclose all information regarding the beneficiary to the participant, except their social security number, the amended routine use will ensure that a participant can readily confirm or amend information about their beneficiary, while still protecting the beneficiary's social security number. In addition, this routine use will improve customer service without sacrificing any individuals' privacy interests.

PBGC is proposing the addition of a routine use to PBGC-6. New routine use 18 will read, “A record from this system may be disclosed to a consumer reporting agency in accordance with 31 U.S.C. 3711(e).” This routine use is necessary as it allows the disclosure of information to consumer reporting agencies in order to facilitate and collect claims for money or property due to PBGC.

(7) PBGC Is Proposing To Add One Routine Use to PBGC-8, Employee Relations Files

PBGC's review of its system of records notices revealed the need to be able to disclose certain records from the PBGC system of records documenting employee grievances to union representatives. Accordingly, PBGC is proposing to add one additional routine use to PBGC-8; Employee Relations Files (last published at 81 FR 63304 (September 14, 2016), in furtherance of resolving a grievant's complaint and limiting such disclosure to the extent that it is relevant to the subject matter involved in the union issue or proceeding and if disclosure would be in the interest of the subject individual. New routine use 3 will read: “A record from this system may be disclosed to a union representative, Hearing Examiner or Arbitrator for the purpose of representation or in order to conduct a hearing in connection with an employee's grievance or appeal.”

(8) PBGC Is Proposing To Amend the Name of the System of Record, Amend One Routine Use, Correct the Numbering of Published Routine Uses, and Add Two Routine Uses to PBGC-9, Unclaimed Pensions

PBGC's review of its system of records notices revealed the need to limit the disclosure of certain information and permit the disclosure of other information from the PBGC system of records containing information on unclaimed retirement funds. PBGC is proposing to amend the name of the system, amend one routine use, correct the numbering of published routine uses and add two routine uses to PBGC-9: Unclaimed Pensions (last published at 81 FR 63306 (September 14, 2016)). These changes are designed to ensure that the system name adequately reflects the information contained therein and to ensure that the Agency may fulfill its mission of paying benefits to participants or their beneficiaries while still protecting individual privacy rights. The new name of the system of record will be PBGC-9: Unclaimed Retirement Funds.

In the last published version of this records notice, there were two routine uses number 7. PBGC is proposing to amend the first routine use 7 by removing language permitting the disclosure of the last known address of participants and beneficiaries. PBGC believes that not disclosing this information to the public protects the privacy rights of these individuals. Further, the information that will continue to be disclosed pursuant to routine use 7 is more than sufficient to make the public aware and potentially identify and locate individuals who may be owed a benefit payment.

PBGC also proposes the correction of numbering by revising the latter routine use to 8. There are no further changes to this routine use and will be republished to read: 8. Names, social security numbers, last known addresses, dates of birth and death, employment history, and pay status of individuals covered by legal settlement agreements involving PBGC may be disclosed to entities covered by or created under those agreements.

New routine use 9 will read: “Names, social security numbers, last known addresses, dates of birth, and benefit amounts owed may be disclosed to other government agencies under a Memorandum of Understanding or Interagency Agreement in order to locate missing participants.”

New routine use 10 will read: “Names, social security numbers, dates of birth and death, name of plan sponsors, plan sponsor EIN/PN may be periodically disclosed to insurance companies where annuities have been purchased by a terminated plan.”

(9) PBGC Is Proposing To Update and Add Ten Routine Uses to PBGC-12, Personnel Security Investigation Records

PBGC's review of its system of records notices revealed the need to disclose certain information from the PBGC system of records documenting personnel information to other branches and agencies of the Federal Government. PBGC is proposing to update and add ten routine uses to PBGC-12: Personnel Security Investigation Records (last published at 81 FR 63309 (September 14, 2016)), to ensure consistency with the Federal Investigative Standards and to promote the efficiency of governmental hiring and investigations associated with hiring. The records in this system may be used to provide investigatory information for determinations concerning whether an individual is, or continues to be, suitable or fit for Government employment or military service; eligible for logical and physical access to federally controlled facilities and information systems; eligible to hold a sensitive position (including, but not limited to, eligibility for access to classified information); fit to perform work for or on behalf of the Government as an employee of a contractor; qualified for Government service; qualified to perform contractual services for the Government; and, loyal to the United States. The system is also used to document such determinations. In conducting a review of the system of records, it was determined that information regarding PBGC vendors may be included in the system. The category of vendor has been added to the category of individuals covered by the system and are included in the system of records' purpose.

PBGC proposes the clarification of the name of an office within a federal agency used as an example in routine use 2. The office charged with investigating the suitability of individuals in this system would be the National Background Investigations Bureau (NBIB), a component of the Office of Personnel Management. The clarified example in the routine use example will now include, “National Background Investigations Bureau (NBIB).”

New routine use 4 will read: “To designated officers and employees of agencies, offices, and other establishments in the executive, legislative, and judicial branches of the Federal Government, having a need to evaluate qualifications, suitability, and loyalty to the United States Government and/or a security clearance or access determination.”

New routine use 5 will read: “To designated officers and employees of agencies, offices, and other establishments in the executive, legislative, and judicial branches of the Federal Government, when such agency, office, or establishment investigates an individual for purposes of granting a security clearance, or for the purpose of making a determination of qualifications, suitability, or loyalty to the United States Government, or access to classified information or restricted areas.”

New routine use 6 will read: “To designated officers and employees of agencies, offices, and other establishments in the executive, judicial, or legislative branches of the Federal Government, having the responsibility to grant clearances to make a determination regarding access to classified information or restricted areas, or to evaluate qualifications, suitability, or loyalty to the United States Government, in connection with performance of a service to the Federal Government under a contract or other agreement.”

New routine use 7 will read: “To U.S. intelligence agencies for use in intelligence activities.”

New routine use 8 will read: “To the appropriate Federal, State, local, tribal, or other public authority responsible for investigating, prosecuting, enforcing, or implementing a statute, rule, regulation, or order where OPM becomes aware of an indication of a violation or potential violation of civil or criminal law or regulation.”

New routine use 9 will read: “To an agency, office, or other establishment in the executive, legislative, or judicial branches of the Federal Government, in response to its request, in connection with the hiring or retention of an employee, the issuance of a security clearance, the conducting of a security or suitability investigation of an individual, the classifying of jobs, the letting of a contract, or the issuance of a license, grant, or other benefit by the requesting agency, to the extent that the information is relevant and necessary to the requesting agency's decision on the matter.”

New routine use 10 will read: “To provide information to a congressional office from the record of an individual in response to an inquiry from the congressional office made at the request of that individual. However, to the extent these records may reveal the identity of an individual who has provided information pertaining to the investigation, the investigative file, or the parts thereof, are exempt from release. Further, requests for OPM records contained in this system will be referred to OPM.”

New routine use 11 will read: “To disclose information to contractors, experts, consultants, or students performing or working on a contract, service, or job for the PBGC.”

New routine use 12 will read: “To disclose results of investigations or individuals records to agencies, such as the Department of Labor, providing adjudicative support services to PBGC.”

And, new routine use 13 will read: “To provide criminal history record information to the FBI, to help ensure the accuracy and completeness of FBI and PBGC records.”

(10) PBGC Is Proposing To Amend the System Manager and Add One Routine Use to PBGC-13, Debt Collection

PBGC is proposing to amend the system manager and add a routine use to PBGC-13: Debt Collection (last published at 81 FR 63311 (September 14, 2016)). PBGC is proposing the addition of a second system manager due to the proposed rescission of PBGC-24: Participant Debt Collection. The consolidation of the two systems streamlines PBGC processes and eliminates redundancy. Adding the system manager for PBGC-24 ensures that the public has access to the individuals responsible for the collection and maintenance of records in that system.

The section of the system of records notice entitled “System Manager(s) and Address” will be amended to included: Chief of Benefits Administration, Office of Benefits Administration, PBGC, 1200 K Street NW, Washington DC 20005.

PBGC is proposing the addition of one routine for disclosure to a consumer reporting agency. This routine use is necessary as it allows PBGC to collect claims for money or property. New routine use 5 will read, “A record from this system may be disclosed to a consumer reporting agency in accordance with 31 U.S.C. 3711(e).”

(11) PBGC Is Proposing To Add One Routine Use to PBGC-14, My Plan Administration Account Records

PBGC is proposing to add a routine use to PBGC-14: My Plan Administration Account Records (last published at 81 FR 63312 (September 14, 2016)). PBGC is proposing the addition to ensure that the Agency may fulfill its mission of locating and paying benefits to participants or their beneficiaries. New routine use 2 will read: “Names, addresses and phone numbers of plan sponsors, plan administrators, pension practitioners, actuaries and pension benefit professionals who submit plan information to My PAA may be disclosed to the public in order to ensure the public has access to contact information for those individuals submitting information regarding pension plans and those responsible for the administration of pension plans covered by the Employee Retirement Income Security Act of 1974 (ERISA).”

(12) PBGC Is Proposing To Add Seven Routine Uses to PBGC-17, Office of Inspector General Investigative File System

PBGC is proposing to add seven additional routine uses to PBGC-17: Office of Inspector General Investigative File System (last published at 81 FR 63315 (September 14, 2016)). During the review of the systems' routine uses, it was determined that additional routine uses were necessary in order to ensure that the Office of Inspector General (OIG) continues to operate with efficiency and transparency. In addition, these new routine uses will facilitate the sharing of information between agencies in order to fulfill the mission of the OIG.

New routine use 10 will read: “A record may be disclosed where there is an indication of a violation or a potential violation of law, rule, regulation or order whether civil, criminal, administrative or regulatory in nature, to the appropriate agency, whether federal, state, tribal or local, or to a securities self-regulatory organization, charged with enforcing or implementing the statute, or rule, regulation or order.”

New routine use 11 will read: “A record may be disclosed to federal, state, tribal or local authorities in order to obtain information or records relevant to an Office of Inspector General investigation or inquiry.”

New routine use 12 will read: “A record may be disclosed to a bar association, state accountancy board, or other federal, state, tribal, or local licensing or oversight authority; or professional association or self-regulatory authority to the extent that it performs similar functions (including the Public Company Accounting Oversight Board) for investigations or possible disciplinary action.”

New routine use 13 will read: “A record may be disclosed to inform complainants, victims, and witnesses of the results of an investigation or inquiry.”

New routine use 14 will read: “To the Department of Justice for the purpose of obtaining advice on investigatory matters or in order to refer information for the purpose of prosecution.”

New routine use 15 will read: “To contractors, interns and experts who have been engaged to assist in an OIG investigation or in the performance of a service related to this system of records and require access to these records for the purpose of assisting the OIG in the efficient administration of its duties. All recipients of these records shall be required to comply with the requirements of the Privacy Act of 1974, as amended.”

New routine use 16 will read: “To the public when the matter under investigation has become public knowledge, or when the Inspector General determines that such disclosure is necessary to preserve confidence in the integrity of the OIG investigative process, to demonstrate the accountability of PBGC employees, or other individuals covered by this system, or when there exists a legitimate public interest, unless the Inspector General has determined that disclosure of specific information would constitute an unwarranted invasion of personal privacy.”

And, new routine use 17 will read: “A record from this system may be disclosed to a consumer reporting agency in accordance with 31 U.S.C. 3711(e).”

(13) PBGC Is Proposing To Amend the Category of Records and Add a Routine Use to PBGC-19, Office of General Counsel Case Management System

PBGC is proposing to amend the category of records contained in the system and add an additional routine use to PBGC-19: Office of General Counsel Case Management System (last published at 81 FR 63316 (September 14, 2016)). During the review of the system of records, it was determined that additional categories of records exist in this system. PBGC proposes the amendment of the categories of records to include the following records: Draft and final versions of notes, disclosures and determinations made in accordance with the Freedom of Information Act and the Privacy Act of 1974; records and information obtained from other federal, state, local and tribal agencies and departments, including, but not limited to: Office of Personnel Management, Social Security Administration, Department of Treasury and Department of Justice; ethics inquiries; personnel records; financial records; and, individual tax returns.

PBGC proposes the addition of a new routine use permitting the disclosure of information to a consumer reporting agency in order to collect a claim due to the agency. New routine use 11 will read, “A record from this system may be disclosed to a consumer reporting agency in accordance with 31 U.S.C. 3711(e).”

(14) PBGC Is Proposing To Make Clarifying Changes to Existing Systems of Records

PBGC is proposing to correct and update the following sections in existing system of records notices: Security Classification; System Location; Categories of Individuals Covered by the System; Categories of Records in the System; Authority for Maintenance of the System; Purpose(s); Routine Uses of Records Maintained in the System, Including Categories of Users and the Purposes of Such Uses; Storage; Retrievability; Safeguards; Retention and Disposal; System Manager(s) and Address; Notification Procedure; Record Access Procedures; Contesting Record Procedures; Record Source Categories; and, Exemptions Claimed for the System.

PBGC is proposing these updates to PBGC-1, Congressional Correspondence (last published at 81 FR 63300 (September 14, 2016)); PBGC-2, Disbursements; PBGC-3, Employee Payroll, Leave, and Attendance Records; PBGC-6, Plan Participant and Beneficiary Data; PBGC-8, Employee Relations Files; PBGC-9, Unclaimed Pensions (amended to Unclaimed Retirement Funds); PBGC-10, Administrative Appeals File (last published at 81 FR 63307 (September 14, 2016)); PBGC-11, Call Detail Records (last published at 81 FR 63308 (September 14, 2016)); PBGC-12, Personnel Security Investigation Records; PBGC-13, Debt Collection (last published at 81 FR 63311 (September 14, 2016)); PBGC-14, My Plan Administration Account Records; PBGC-15, Emergency Notification Records (last published at 81 FR 63313 (September 14, 2016)); PBGC-16, Employee Online Directory (last published at 81 FR 63314 (September 14, 2016)); PBGC-17, Inspector General Investigative File System; PBGC-19, Office of General Counsel Case Management System; PBGC-21, Reasonable Accommodation Records (last published at 81 FR 63317 (September 14, 2016)); PBGC-22, Telework and Alternative Worksite Records (last published at 81 FR 63319 (September 14, 2016)); and, PBGC-23, Internal Investigations of Allegations of Harassing Conduct (last published at 81 FR 63320 (September 14, 2016)). These corrections and amendments will make the system of records notices more accurate and easier to understand individually, and collectively.

(15) PBGC Is Proposing To Republish All Existing System of Records Notices

PBGC annually reviews all system of records notices. There have been minor corrections, changes in system owners due to internal agency realignments, and administrative changes for consistency in the existing system of records notices. As such, PBGC proposes to republish all existing system of records notices in order to clarify and correct information since the last publication.

PBGC proposes to clarify references to law enforcement entities throughout the document to include tribal law enforcement agencies or departments.

Concerning security classification, all systems have been labeled as unclassified. Concerning the safeguarding and disposal of all systems of records, PBGC follows Federal Law and Regulations, the National Institute of Science and Technology (NIST) guidelines and best practices, as appropriate and current notices reflect those guidelines. Concerning the system location, the name of the agency was previously abbreviated, and the corrected location reflects a more accurate location of PBGC systems. Concerning authority for maintenance, all citations have been corrected and reflect the laws that govern the systems and collection of information for those systems. Concerning the routine uses for the systems, the numbering of the routine uses was corrected to reflect the proper numbering of all routine uses. Concerning the policies and practices for storing, retrieving, accessing, retaining and disposing of records, the notices reflect the current practices of the agency in keeping with the E-Government Act of 2002 and current practices of the agency in regard to these systems. Concerning storage, the notice has been clarified to reflect that PBGC records may be maintained on back-up tapes, or on the PBGC or a contractor-hosted network. Concerning retrievability, all methods of retrieval have been updated and verified. Concerning safeguards, minor grammatical corrections were made, and the entry was updated to reflect current agency policies regarding protection and security of these systems. Concerning retention and disposal, the entry was clarified to reflect that agency practices were in line with guidelines issued by the National Archives and Record Administration. Concerning notification, access and contesting or amending records, administrative changes reflect the current regulations governing the agency. Concerning record source categories, minor administrative changes were made to reflect the correct name of the offices providing records for these systems.

Pursuant to 5 U.S.C. 552a(e)(11), interested persons are invited to submit written comments on the proposal of these systems of records. A report on the proposed systems has been sent to Congress and the Office of Management and Budget for their evaluation.

For the convenience of the public, PBGC's Prefatory Statement of General Routine Uses, the amended systems of records, and the new systems of records are published in full below with changes italicized.

Issued in Washington, DC.
W. Thomas Reeder,
Director, Pension Benefit Guaranty Corporation.

Prefatory Statement of General Routine Uses

The following routine uses are incorporated by reference into various systems of records, as set forth below.

G1. Routine Use—Law Enforcement: A record from this system may be disclosed to law enforcement in the event the record is connected to a violation or potential violation of law, whether civil, criminal or regulatory in nature, and whether arising by general statute, regulation, rule, or order issued pursuant thereto. Such disclosure may be made to the appropriate agency, whether federal, state, local, or tribal, or other public authority responsible for enforcing, investigating or prosecuting such violation or charged with enforcing or implementing the statute, or rule, regulation, or order issued pursuant thereto, if PBGC determines that the records are both relevant and necessary to any enforcement, regulatory, investigative or prospective responsibility of the receiving entity.

G2. Routine Use—Disclosure When Requesting Information: A record from this system of records may be disclosed to a federal, state, tribal or local agency or to another public or private source maintaining civil, criminal, or other relevant enforcement information or other pertinent information if, and to the extent necessary, to obtain information relevant to a PBGC decision concerning the hiring or retention of an employee, the retention of a security clearance, or the letting of a contract.

G3. Routine Use—Disclosure of Existence of Record Information: With the approval of the Director, Human Resources Department (or his or her designee), the fact that this system of records includes information relevant to a federal agency's decision in connection with the hiring or retention of an employee, the retention of a security clearance, the letting of a contract, or the issuance of a license, grant, or other benefit may be disclosed to that federal agency.

G4. Routine Use—Disclosure in Litigation: A record from this system of records may be disclosed in a proceeding before a court or other adjudicative body in which PBGC, an employee of PBGC in his or her official capacity, an employee of PBGC in his or her individual capacity whom PBGC (or the Department of Justice (DOJ)) has agreed to represent is a party, or the United States or any other federal agency is a party and PBGC determines that it has an interest in the proceeding, and if PBGC determines that the record is relevant to the proceeding and that the use is compatible with the purpose for which PBGC collected the information.

G5. Routine Use—Disclosure to DOJ in Litigation: When PBGC, an employee of PBGC in his or her official capacity, or an employee of PBGC in his or her individual capacity whom PBGC (or DOJ) has agreed to represent is a party to a proceeding before a court or other adjudicative body, or the United States or any other federal agency is a party and PBGC determines that it has an interest in the proceeding, a record from this system of records may be disclosed to DOJ if PBGC is consulting with DOJ regarding the proceeding or has decided that DOJ will represent PBGC, or its interest, in the proceeding and PBGC determines that the record is relevant to the proceeding and that the use is compatible with the purpose for which PBGC collected the information.

G6. Routine Use—Disclosure to the Office of Management and Budget (OMB): A record from this system of records may be disclosed to OMB in connection with the review of private relief legislation as set forth in OMB Circular No. A-19 at any stage of the legislative coordination and clearance process as set forth in that Circular.

G7. Routine Use—Congressional Inquiries: A record from this system of records may be disclosed to a congressional office in response to an inquiry from the congressional office made at the request of the individual.

G8. Routine Use—Disclosure to Labor Organizations: A record from this system of records may be disclosed to an official of a labor organization recognized under 5 U.S.C. ch. 71 when necessary for the labor organization to properly perform its duties as the collective bargaining representative of PBGC employees in the bargaining unit.

G9. Routine Use—Disclosure in Response to a Breach: A record from this system of records may be disclosed to appropriate agencies, entities, and persons when (1) PBGC suspects or has confirmed that there has been a breach of the system of records; (2) PBGC has determined that as a result of the suspected or confirmed breach there is a risk of harm to individuals, the agency (including its information systems, programs and operations), the Federal Government, or national security; and (3) the disclosure made to such agencies, entities, and persons is reasonably necessary to assist in connection with PBGC's efforts to respond to the suspected or confirmed breach or to prevent, minimize, or remedy such harm.

G10. Routine Use—Contractors, Experts, and Consultants: To contractors, experts, consultants, and the agents thereof, and others performing or working on a contract, service, cooperative agreement, or other assignment for PBGC when necessary to accomplish an agency function. Individuals provided information under this routine use are subject to the same Privacy Act requirements and limitations on disclosure as are applicable to PBGC employees.

G11. Routine Use—Records Management: To the National Archives and Records Administration or to the General Services Administration for records management inspections conducted under 44 U.S.C. 2904 and 2906.

G12. Routine Use—Gathering Information: To any source from which information is requested in the course of processing a grievance, investigation, arbitration, or other litigation, to the extent necessary to identify the individual, inform the source of the purpose(s) of the request, and identify the type of information requested.

G13. Routine Use—Disclosure to a Federal Agency: To disclose information to a federal agency, in response to its request, in connection with hiring or retaining an employee, issuing a security clearance, conducting a security or suitability investigation of an individual, or classifying jobs, to the extent that the information is relevant and necessary to the requesting agency's decision on the matter.

G14. Routine Use—Disclosure to Another Federal Agency or Federal Entity in Response to a Breach: To another federal agency or federal entity, when information from this system of records is reasonably necessary to assist the recipient agency or entity in (1) responding to a suspected or confirmed breach or (2) preventing, minimizing, or remedying the risk of harm to individuals, the agency (including its information systems, programs, and operations), the Federal Government, or national security.

SYSTEM NAME AND NUMBER

PBGC-1: Congressional Correspondence—PBGC.

SECURITY CLASSIFICATION:

Unclassified.

SYSTEM LOCATION:

Pension Benefit Guaranty Corporation (PBGC), 1200 K Street NW, Washington, DC 20005 (Records may be kept at an additional location as backup for continuity of operations.)

SYSTEM MANAGER(S) AND ADDRESS:

Director, Communications Outreach and Legislative Affairs, PBGC, 1200 K Street NW, Washington, DC 20005.

AUTHORITY FOR MAINTENANCE OF THE SYSTEM:

29 U.S.C. 1302; 44 U.S.C. 3101; and 5 U.S.C. 301.

PURPOSE(S) OF THE SYSTEM:

This system of records is maintained to catalog and respond to correspondence received from members of Congress and their staff on behalf of their constituents, and to respond to correspondence directed to the Office of the Director of the PBGC.

CATEGORIES OF INDIVIDUALS COVERED BY THE SYSTEM:

Members of the United States Congress and staff, Congressional constituents and individuals who have corresponded with PBGC.

CATEGORIES OF RECORDS IN THE SYSTEM:

Names of members of Congress, congressional staff and constituents; addresses; phone numbers; social security numbers; customer identification numbers; email addresses; copies of correspondence received; replies to such correspondence.

RECORD SOURCE CATEGORIES:

Members of Congress and their staff; correspondents; agency employees preparing responses to incoming correspondence or who generate original correspondence in their official capacities.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G11, G13 and G14 apply to this system of records (see Prefatory Statement of General Routine Uses).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Name.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-1, Congressional Correspondence (last published at 81 FR 63300 (September 14, 2016)).

SYSTEM NAME AND NUMBER

PBGC-2: Disbursements—PBGC.

SECURITY CLASSIFICATION:

Unclassified.

SYSTEM LOCATION:

Pension Benefit Guaranty Corporation (PBGC), 1200 K Street NW, Washington, DC 20005, PBGC Field Offices (Field Benefit Administration), and/or paying agent worksites. (Records may be kept at an additional location as backup for continuity of operations.)

SYSTEM MANAGER:

Director, Financial Operations Department, PBGC, K Street NW, Washington, DC 20005.

AUTHORITY FOR MAINTENANCE OF THE SYSTEM:

29 U.S.C. 1302; 44 U.S.C. 3101; 5 U.S.C. 301; 31 U.S.C. 6101; 31 U.S.C. 9101, et seq.; 31 U.S.C. 3716.

PURPOSE(S) OF THE SYSTEM:

This system of records is maintained for use in determining amounts to be paid and in effecting payments by the Department of the Treasury on behalf of PBGC.

CATEGORIES OF INDIVIDUALS COVERED BY THE SYSTEM:

PBGC Employees; consultants; contractors; vendors; and any other individuals who receive payments from PBGC.

CATEGORIES OF RECORDS IN THE SYSTEM:

Acquisition data for the procurement of goods and services; invoices; payment vouchers; financial information of commercial vendors and government contractors; Electronic Funds Transfer (EFT) information; IP information; cookies (session and persistent); name; address; taxpayer identification number; financial information; bank information; Social Security number; and other information related to the disbursement of funds.

RECORD SOURCE CATEGORIES:

Subject individuals and PBGC.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and 5 U.S.C. 552a(b)(3) and:

1. General Routine Uses Gl through G7 and G9 through G14 apply to this system of records (see Prefatory Statement of General Routine Uses).

2. A record from this system of records may be transmitted to the United States Department of the Treasury and/or financial institutions, including entities contracted by PBGC, to effect payments to consultants and vendors, to verify consultants' and vendors' eligibility to receive payments, or to fulfill PBGC's requirement pursuant to the Digital Accountability and Transparency Act of 2014.

3. To the Office of Personnel Management (OPM), the Office of Management and Budget (OMB), or the Government Accountability Office (GAO) when the information is required for program evaluation purposes.

4. A record from this system may be disclosed to a consumer reporting agency in accordance with 31 U.S.C. 3711(e).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: Name, social security number, and tax payer identification number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

Records existing on paper are destroyed beyond recognition. Transactional records may be temporary in nature and deleted once payment has been accepted, any action has been completed, superseded, obsolete, or no longer needed. The retention of other records may be discontinued at the completion of the contract, a requisition requiring payment, or upon receipt of the payment itself.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-2, Disbursements (last published at 81 FR 63301 (September 14, 2016)).

SYSTEM NAME AND NUMBER:

PBGC-3: Employee Payroll, Leave, and Attendance Records—PBGC.

SECURITY CLASSIFICATION:

Unclassified.

SYSTEM LOCATION:

Pension Benefit Guaranty Corporation (PBGC), 1200 K Street NW, Washington, DC 20005 (Records may be kept at an additional location as backup for continuity of operations.)

SYSTEM MANAGER(S) AND ADDRESS:

Director, Financial Operations Division, PBGC, 1200 K Street NW, Washington, DC 20005.

Director, Human Resources Department, PBGC, 1200 K Street NW, Washington, DC 20005.

AUTHORITY FOR MAINTENANCE OF THE SYSTEM:

29 U.S.C. 1302; 44 U.S.C. 3101; 5 U.S.C. 301; 5 U.S.C. 5501-5584.

PURPOSE(S):

This system of records is maintained to perform agency functions involving employee, student, and intern leave, attendance, and payments, including determinations relating to the amounts to be paid to employees, the distribution of pay according to employee, student, and intern directions (for allotments to financial institutions, and for other authorized purposes), tax withholdings and other authorized deductions, and for statistical purposes.

CATEGORIES OF INDIVIDUALS COVERED BY THE SYSTEM:

Current and former PBGC employees, students and interns.

CATEGORIES OF RECORDS IN THE SYSTEM:

Personnel information, such as: Names, addresses, phone numbers, social security numbers, employee numbers, dates of birth, notifications of personnel actions; payroll information, such as: Allotments and requests, marital status and number of dependents, beneficiary data, child support enforcement order information (which may include the social security numbers of custodian and minor children), debts owed to PBGC, debts owed to the federal government, garnishments, personal bank account information, direct deposit information, union dues, tax information, other deductions, time and attendance records; emergency contact information; co-owner and/or beneficiary of bonds; Thrift Savings Plan information; Flexible Spending Account information; Long Term Care Insurance; awards; retirement information; salary data including pay rate, grade, length of service; health information.

RECORD SOURCE CATEGORIES:

Subject individuals; subject individuals' supervisors; timekeepers; Department of the Interior, Interior Business Center; and, the Office of Personnel Management.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

2. A record from this system may be disclosed to the United States Department of the Interior, the United States Department of Labor, Social Security Administration, and the United States Department of the Treasury in order to effect payments to current or former PBGC employees, students, and interns.

3. Information regarding current payments due or delinquent repayments owed to PBGC through current and former employees, students, and interns may be shared with the Department of the Treasury for the purposes of offset.

4. Information from this system of records may be disclosed to the Office of Personnel Management pursuant to that agency's responsibility for the evaluation and oversight of federal personnel management.

5. A record from this system may be disclosed to a consumer reporting agency in accordance with 31 U.S.C. 3711(e).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: Name; employee number; or social security number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-3, Employee Payroll, Leave, and Attendance Records (last published at 81 FR 63301 (September 14, 2016)).

SYSTEM NAME AND NUMBER

PBGC-6: Plan Participant and Beneficiary Data—PBGC.

SECURITY CLASSIFICATION:

Unclassified.

SYSTEM LOCATION:

Pension Benefit Guaranty Corporation (PBGC), 1200 K Street NW, Washington, DC 20005, and/or PBGC Field Offices (Field Benefit Administration), plan administrator worksites, and paying agent worksites. (Records may be kept at an additional location as backup for continuity of operations.)

SYSTEM MANAGER(S) AND ADDRESS:

Chief of Benefits Administration, Office of Benefits Administration, PBGC, 1200 K Street NW, Washington, DC 20005.

AUTHORITY FOR MAINTENANCE OF THE SYSTEM:

29 U.S.C. 1055, 1056(d)(3), 1302, 1321, 1341, 1342, and 1350; 26 U.S.C. 6103; 44 U.S.C. 3101; 5 U.S.C. 301.

PURPOSE(S) OF THE SYSTEM:

This system of records is maintained for use in determining whether participants, alternate payees, beneficiaries, spouses and domestic partners are eligible for benefits under plans covered by ERISA, determining supplemental payments to be paid to those persons by a party other than PBGC, determining the amounts of benefits to be paid, making benefit payments, collecting benefit overpayments, and complying with statutory and regulatory mandates.

Names, addresses, and telephone numbers are used to survey customers to measure their satisfaction with PBGC's benefit payment services and to track (for follow-up) those who do not respond to surveys.

Information from this system may be used for research into, and statistical information about, benefit determinations for actuaries and publications.

CATEGORIES OF INDIVIDUALS COVERED BY THE SYSTEM:

Participants, alternate payees, beneficiaries, spouses and domestic partners in terminated and non-terminated retirement plans covered by the Employee Retirement Income Security Act (ERISA), and other individuals who contact PBGC regarding benefits they may be owed from PBGC.

CATEGORIES OF RECORDS IN THE SYSTEM:

Names; addresses; telephone numbers; email addresses; gender; social security numbers and other Social Security Administration information; dates of birth and death; dates of hire, termination, and retirement; salary; employment history; marital status; domestic relations orders; time of plan participation; eligibility status; pay status; benefit data, including records of benefit payments made to participants, alternate payees, and beneficiaries in terminating and terminated retirement plans; powers of attorney; insurance information where plan benefits are provided by private insurers; medical records; disability information; retirement plan names and numbers; correspondence; initial and final PBGC determinations (see, 29 CFR 4003.21 and 4003.59); and, other records relating to debts owed to PBGC.

RECORD SOURCE CATEGORIES:

Plan administrators; participants, spouses, alternate payees, beneficiaries, and other individuals who contact PBGC regarding benefits they may be owed from PBGC; agents listed on power of attorneys; agents listed on release forms, PBGC field office; the SSA; the FAA; and the IRS.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1, G2, G4 through G7, G9 through and G14 apply to this system of records (see Prefatory Statement of General Routine Uses).

2. A record from this system of records may be disclosed to third parties, such as banks, insurance companies, or trustees:

a. To enable these third parties to make or determine benefit payments, or

b. To report to the Internal Revenue Service (IRS) the amounts of benefits paid (or required to be paid) and taxes withheld.

3. A record from this system may be disclosed, in furtherance of proceedings under Title IV of ERISA, to a contributing sponsor (or other employer who maintained the plan), including any predecessor or successor, and any member of the same control group.

4. A record from this system may be disclosed, upon request, for a purpose authorized under ERISA, to an official of a labor organization recognized as the current or former collective bargaining representative of the individual about whom a request is made.

5. Payees' names, addresses, telephone numbers, and information related to how PBGC determined that a debt was owed by such payees to PBGC may be disclosed to the Department of the Treasury or a debt collection agency or to collect a claim. Disclosure to a debt collection agency shall be made only under a contract issued by the federal government that binds any such contractor or employee of such contractor to the penalties of the Privacy Act. The information so disclosed shall be used exclusively pursuant to the terms and conditions of such contract and shall be used solely for the purposes prescribed therein. The contract shall provide that the information so disclosed shall be returned at the conclusion of the debt collection effort.

6. The name and social security number of a participant employed or formerly employed as a pilot by a commercial airline may be disclosed to the Federal Aviation Administration to obtain information relevant to the participant's eligibility or continued eligibility for disability benefits.

7. The name of a participant's plan, the actual or estimated amount of a participant's benefit under ERISA, the form(s) in which the benefit is payable, and whether the participant is currently receiving benefit payments under the plan or (if not) the earliest date(s) such payments could commence may be disclosed to the participant's spouse, domestic partner, former spouse, former domestic partner, child, or other dependent solely to obtain a qualified domestic relations order under 29 U.S.C. 1056(d) and 26 U.S.C. 414(p). PBGC will disclose the information only upon the receipt of a written request by a prospective alternate payee, or the alternate payee's representative, that describes the requester's relationship to the participant and states that the information will be used solely to obtain a qualified domestic relations order under state domestic relations law. PBGC will notify the participant of any information disclosed to a prospective alternate payee or their representative under this routine use.

8. Information from an initial benefit determination under 29 CFR 4003 (excluding the participant's address, telephone number, social security number, and any sensitive medical information) may be disclosed to an alternate payee, or their representative, under a qualified domestic relations order issued pursuant to 29 U.S.C. 1056(d) and 26 U.S.C. 414, et seq., to explain how PBGC determined the benefit due the alternate payee so that the alternate payee can pursue an administrative appeal of the benefit determination under 29 CFR 4003, et seq. PBGC shall notify the participant of the information disclosed to an alternate payee or their representative under this routine use.

9. Information from an alternate payee's initial benefit determination under 29 CFR 4003.1 (excluding the alternate payee's address, telephone number, social security number, and any sensitive medical information) may be disclosed to a participant, or their representative, under a qualified domestic relations order issued pursuant to 29 U.S.C. 1056(d) and 26 U.S.C. 414(p) to explain how PBGC determined the benefit due to the alternate payee so that the participant may pursue an administrative appeal of the benefit determination under 29 CFR 4003, et seq. PBGC shall notify the alternate payee of the information disclosed to a participant or their representative under this routine use.

10. Information used in calculating the benefit, or share of the benefit, of a participant or alternate payee (excluding the participant's or alternate payee's address, telephone number, social security number, and any sensitive medical information) may be disclosed to a participant or an alternate payee, or their representative, when (a) a qualified domestic relations order issued pursuant to 29 U.S.C. and 26 U.S.C. affects the calculation of the benefit, or share of the benefit, of the participant or alternate payee; and (b) the information is needed to explain to the participant or alternate payee how PBGC calculated the benefit, or share of the benefit, of the participant or alternate payee. PBGC shall notify the participant or the alternate payee, or their representative, as appropriate, of the information disclosed to the participant or the alternate payee, or their representative, under this routine use.

11. The names, addresses, social security numbers, dates of birth, and the pension plan name and number of eligible PBGC pension recipients may be disclosed to the Department of the Treasury and the Department of Labor to implement the income tax credit for health insurance costs under 26 U.S.C. 35 and the program for advance payment of the tax credit under 26 U.S.C. 7527.

12. Names, addresses, social security numbers, and dates of birth of eligible PBGC pension recipients residing in a particular state may be disclosed to the state's workforce agency if the agency received a National Dislocated Worker Grant from the Department of Labor under the Workforce Innovation and Opportunity Act of 2014 to provide assistance and support services for state residents under 29 U.S.C. ch. 32.

13. Payees' names, social security numbers, and dates of birth may be provided to the Department of the Treasury's Bureau of the Fiscal Service, the Social Security Administration, the Internal Revenue Service, or a third party with whom PBGC has a contractual relationship, to verify payees' eligibility to receive payments.

14. Names and social security numbers of participants and beneficiaries may be provided to the Department of the Treasury, the Department of the Treasury's financial agent, and the Federal Reserve Bank for the purpose of learning which of PBGC's check payees have electronic debit card accounts used for the electronic deposit of federal benefit payments, for establishing electronic debit card accounts for eligible participants and beneficiaries, and for administering payments to participants and beneficiaries who have selected this method of payment.

15. Information relating to revocation of a power of attorney may be disclosed to the former agent that was named in the revoked power of attorney.

16. With the exception of third party social security numbers, all beneficiary information contained in the participant file (such as: Names, addresses, phone numbers, email addresses and dates of birth) provided by the subject of the record may be disclosed to the subject of the record, upon written request to the Disclosure Officer in accordance with the Record Access Procedure outlined below.

17. Names, social security numbers, last known addresses, dates of birth and death, amount of benefit, plan name, plan EIN/PIN number, name of plan sponsor, and the city and state of the plan sponsor of plan participants and beneficiaries may be disclosed to third parties, with whom PBGC has a contractual relationship, that provide locator services (including credit reporting agencies and debt collection firms or agencies) to locate participants and beneficiaries. Such information will be disclosed only if PBGC has no address for an individual, if mail sent to the individual at the last known address is returned as undeliverable, or if PBGC has been otherwise unsuccessful at contacting the individual. Disclosure shall be made only under a contract that subjects the firm or agency providing the service and its employees to the criminal penalties of the Privacy Act. The information so disclosed shall be used exclusively pursuant to the terms and conditions of such contract and shall be used solely for the purposes prescribed therein. The contract shall provide that the information so disclosed shall be returned or destroyed at the conclusion of the locating effort.

18. Names, social security numbers, last known addresses, dates of birth and death, employment history, and pay status of individuals covered by legal settlement agreements involving PBGC may be disclosed to entities covered by or created under those agreements.

19. A record from this system may be disclosed to a consumer reporting agency in accordance with 31 U.S.C. 3711(e).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: Name; social security number; customer identification number; address; date of birth; or, date of death.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

Paper and electronic records that contain federal tax information are stored under procedures that meet IRS safeguarding standards, as reflected in IRS Publication 1075. Other records that do not contain federal tax information are kept in file folders in areas of restricted access that are locked after office hours.

RECORD ACCESS PROCEDURES:

Individuals, or third parties with written authorization from the individual, wishing to request access to their records in accordance with 29 CFR 4902.4 or to amend records pertaining to themselves in accordance with 29 CFR 4902.5, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-6, Plan Participant and Beneficiary Data (last published at 81 FR 63303 (September 14, 2016)).

SYSTEM NAME AND NUMBER

PBGC-8: Employee Relations Files—PBGC

SECURITY CLASSIFICATION:

Unclassified.

SYSTEM LOCATION:

Pension Benefit Guaranty Corporation (PBGC), 1200 K Street NW, Washington, DC 20005 (Records may be kept at an additional location as backup for continuity of operations.)

SYSTEM MANAGER(S) AND ADDRESS:

Director, Human Resources Department, PBGC, 1200 K Street NW, Washington, DC 20005.

AUTHORITY FOR MAINTENANCE OF THE SYSTEM:

29 U.S.C. 1302; 44 U.S.C. 3101; 5 U.S.C. 301; 5 U.S.C. 7101; 42 U.S.C. 2000e et seq.

PURPOSE(S) OF THE SYSTEM:

The purpose of this system is to catalog, investigate, and appropriately and timely respond to administrative and union grievances and appeals filed by PBGC employees or the Union on behalf of an employee pursuant to PBGC's Administrative Grievance Procedure and the Collective Bargaining Agreement.

CATEGORIES OF INDIVIDUALS COVERED BY THE SYSTEM:

Current and former PBGC employees who have initiated grievances under an administrative grievance procedure or under an applicable collective bargaining agreement.

CATEGORIES OF RECORDS IN THE SYSTEM:

Administrative and union grievances submitted by PBGC employees or the Union; agency responses to employees and Union grievances; employees' appeals of responses to grievances; agency responses to such appeals and related correspondence; investigative notes; records of proceedings; appeal decisions; last chance, last rights, and settlement agreements, and related information.

RECORD SOURCE CATEGORIES:

Subject individuals; subject individuals' supervisors, managers, representatives or colleagues; PBGC Office of the General Counsel; PBGC Human Resources Department staff; Department of Labor; Office of Personnel Management; United States Office of Special Counsel; Federal Labor Relations Authority; the Equal Employment Opportunity Commission; the Merit Systems Protection Board; and, other individuals with relevant information.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G11, G13, and G14 apply to this system of records (see Prefatory Statement of General Routine Uses).

2. A record from this system of records may be disclosed to the Office of Personnel Management, the Merit Systems Protection Board, the Federal Labor Relations Authority, Office of Special Counsel, or the Equal Employment Opportunity Commission to carry out their authorized functions (under 5 U.S.C. 1103, 1204, 7105, and 42 U.S.C. 2000e-4, in that order).

3. A record from this system may be disclosed to a union representative, Hearing Examiner or Arbitrator for the purpose of representation or in order to conduct a hearing in connection with an employee's grievance or appeal.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by employee name or social security number.

RETENTION AND DISPOSAL:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, following the requirements of Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

Pursuant to 5 U.S.C. 552a(k)(2), records in this system are exempt from the requirements of subsections (c)(3), (d), (e)(1), (e)(4)(G), (H), (I), and of 5 U.S.C. 552a, provided, however, that if any individual is denied any right, privilege, or benefit that he or she would otherwise be entitled to by federal law, or for which he or she would otherwise be eligible, as a result of the maintenance of these records, such material shall be provided to the individual, except to the extent that the disclosure of the material would reveal the identity of a source who furnished information to the Government with an express promise that the identity of the source would be held in confidence.

HISTORY:

PBGC-8, Employee Relations Files (last published at 81 FR 63305 (September 14, 2016)).

SYSTEM NAME AND NUMBER

PBGC-9: Unclaimed Pensions—PBGC.

SECURITY CLASSIFICATION:

Unclassified.

SYSTEM LOCATION:

Pension Benefit Guaranty Corporation (PBGC), 1200 K Street NW, Washington, DC 20005 and/or PBGC Field Offices (Field Benefit Administration), and paying agent worksites. (Records may be kept at an additional location as backup for continuity of operations.)

SYSTEM MANAGER(S) AND ADDRESS:

Director—Participant Services Department, Office of Benefits Administration, PBGC, 1200 K Street NW, Washington, DC 20005.

AUTHORITY FOR MAINTENANCE OF THE SYSTEM:

29 U.S.C. 1055, 1056(d)(3), 1302, 1321, 1322, 1322a, 1341, 1342, and 1350; 29 U.S.C. 1203; 44 U.S.C. 3101; 5 U.S.C. 301.

PURPOSE(S) OF THE SYSTEM:

This system of records is maintained to locate participants, alternate payees, and beneficiaries of defined benefit and defined contribution plan funds who may be owed benefits as the result of a terminated plan or defined contribution plan whose funds are held under the control or authority of the PBGC, and to provide information on insurance companies to individuals who may have had annuities purchased for them by a terminated plan.

CATEGORIES OF INDIVIDUALS COVERED BY THE SYSTEM:

Participants, alternate payees, and beneficiaries in defined benefit plans, and defined contribution plans covered by the Employee Retirement Income Security Act of 1974 (ERISA).

CATEGORIES OF RECORDS IN THE SYSTEM:

Names; dates of birth and death; social security numbers; addresses; email addresses; telephone numbers; names of plan sponsor; names of defined benefit and defined contribution plans; plan numbers for defined benefit and defined contribution plans; employment history; pay status; amount of benefit owed; last known address of the plan sponsor and plan sponsor EIN/PN.

RECORD SOURCE CATEGORIES:

PBGC-6; the SSA; the IRS; labor organization officials; firms or agencies providing locator services; USPS licensees; and, PBGC Field Offices (Field Benefit Administration) and any other individual that provides PBGC with information regarding a missing participant, beneficiary, or alternate payee.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1, G4 through G7, G9 through G11, G13 and G14 apply to this system of records (see Prefatory Statement of General Routine Uses).

2. Names and social security numbers of plan participants, beneficiaries, and alternate payees may be disclosed to the Internal Revenue Service (IRS) to obtain current addresses from tax return information and to the Social Security Administration (SSA) to obtain current addresses. Such information will be disclosed only if PBGC has no address for an individual or if mail sent to the individual at the last known address is returned as undeliverable.

3. Names and last known addresses may be disclosed to an official of a labor organization recognized as the collective bargaining representative of participants for posting in union halls or for other means of publication to obtain current addresses of participants and beneficiaries. Such information will be disclosed only if PBGC has no address for an individual or if mail sent to the individual at the last known address is returned as undeliverable.

4. Names, social security numbers, last known addresses, dates of birth and death, amount of benefit, retirement plan name, plan EIN/PN number, name of plan sponsor, and the city and state of the plan sponsor may be disclosed to private firms and agencies that provide locator services, including credit reporting agencies and debt collection firms or agencies, to locate participants, beneficiaries, and alternate payees. Such information will be disclosed only if PBGC has no address for an individual, if mail sent to the individual at the last known address is returned as undeliverable or if PBGC has been otherwise unsuccessful at contacting the individual. Disclosure shall be made only under a contract that subjects the firm or agency providing the service and its employees and contractors to the criminal penalties of the Privacy Act. The information so disclosed shall be used exclusively pursuant to the terms and conditions of such contract and shall be used solely for the purposes prescribed therein. The contract shall provide that the information so disclosed shall be returned or destroyed at the conclusion of the locating effort.

5. Names and addresses may be disclosed to licensees of the United States Postal Service (USPS) to obtain current addresses under the USPS's National Change of Address Linkage System (NCOA). Disclosure shall be made only under a contract that binds the licensee of the Postal Service and its employees to the criminal penalties of the Privacy Act. The contract shall provide that the records disclosed by PBGC shall be used exclusively for updating addresses under NCOA and must be returned to PBGC or destroyed when the process is completed. The records will be exchanged electronically in an encrypted format.

6. Names and last known addresses may be disclosed to other participants in, and beneficiaries under, a retirement plan to obtain the current addresses of individuals. Such information will be disclosed only if PBGC has no address for an individual or if mail sent to the individual at the last known address is returned as undeliverable.

7. Names of participants and beneficiaries, names and addresses of participants' former employers, and the plan name may be disclosed to the public to obtain the current addresses for participants, beneficiaries, and alternate payees. Such information will be disclosed to the public when PBGC is unable to make benefit payments to those participants, beneficiaries, and alternate payees because the address on file is unable to be confirmed as current or correct.

8. Names, social security numbers, last known addresses, dates of birth and death, employment history, and pay status of individuals covered by legal settlement agreements involving PBGC may be disclosed to entities covered by or created under those agreements.

9. Names, social security numbers, last known addresses, dates of birth, and benefit amounts owed may be disclosed to other government agencies under a Memorandum of Understanding or an Interagency Agreement in order to locate missing participants.

10. Names, social security numbers, dates of birth and death, name of plan sponsors, plan sponsor EIN/PN may be periodically disclosed to insurance companies where annuities have been purchased by a terminated plan.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by employee name, social security number and/or date of birth.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-9, Unclaimed Pensions (amended to Unclaimed Retirement Funds) (last published at 81 FR 63306 (September 14, 2016)).

SYSTEM NAME AND NUMBER

PBGC-10: Administrative Appeals Files—PBGC.

SECURITY CLASSIFICATION:

Unclassified.

SYSTEM LOCATION:

Pension Benefit Guaranty Corporation (PBGC), 1200 K Street NW, Washington, DC 20005. (Records may be kept at an additional location as backup for continuity of operations.)

SYSTEM MANAGER(S) AND ADDRESS:

Manager of the Appeals Division, Office of the General Counsel, PBGC, 1200 K Street NW, Washington, DC 20005.

AUTHORITY FOR MAINTENANCE OF THE SYSTEM:

29 U.S.C. 1302; 44 U.S.C. 3101; 5 U.S.C. 301; 29 U.S.C. ch. 18; 29 CFR 4003.1; 29 CFR 4003.

PURPOSE(S) OF THE SYSTEM:

The purpose of this system is to catalog, review, and respond to administrative appeals by plan participants, beneficiaries and employers of PBGC determinations (such as plan, benefit, qualified domestic relations order, payment, and liability determinations).

CATEGORIES OF INDIVIDUALS COVERED BY THE SYSTEM:

Individuals who file administrative appeals with PBGC' s Appeals Board.

CATEGORIES OF RECORDS IN THE SYSTEM:

Personal information (such as names, addresses, social security numbers, gender, dates of birth, dates of hire and termination, salary, marital status, marriage certificates, birth certificates, domestic relations orders, medical records); employment and pension plan information (such as the name of the pension plan, plan number, dates of commencement of plan participation or employment, statements regarding employment, dates of termination of plan participation or retirement, benefit payment data, benefit election forms and data on beneficiaries, pay status, calculations of benefit amounts, calculations of amounts subject to recoupment and/or recovery, and worker's compensation awards); Social Security Administration (SSA) information; insurance claims and awards; correspondence; and, other information relating to appeals and initial and final PBGC determinations.

RECORD SOURCE CATEGORIES:

Subject individuals; participants, beneficiaries, or alternate payees; plan administrators, plan actuaries, paying agents, purchased annuity providers, contributing sponsors (or other employer who maintained the plan, which may include any predecessor, successor, or member of the same control group); the labor organization recognized as the collective bargaining representative of a participant; SSA; and, any third party affected by the decision.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 and G4 through G14 apply to this system of records (see Prefatory Statement of General Routine Uses).

2. A record from this system may be disclosed to third parties who may be aggrieved by the decision of the Appeals Board under 29 CFR 4003.57.

3. A record from this system may be disclosed, upon request, to an attorney representative or a non-attorney representative who has a power of attorney for the subject individuals, under 29 CFR 4003.6.

4. A record from this system may be disclosed to third parties, such as banks, insurance companies, and trustees, to effectuate benefit payments to plan participants, beneficiaries, and/or alternate payees.

5. A record from this system may be disclosed to third parties, such as contractors and expert witnesses, to obtain expert analysis of an issue necessary to resolve an appeal.

6. A record from this system, specifically, the name and social security number of a participant, may be disclosed to an official of a labor organization recognized as the collective bargaining representative of the participant to obtain information relevant to the resolution of an appeal.

7. A record from this system may be disclosed to a consumer reporting agency in accordance with 31 U.S.C. 3711(e).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: participant, beneficiary, and/or alternate payee's name, social security number, or PBGC customer identification number; plan name; appeal number; or extension request number.

Electronic records are stored on computer networks, which may include cloud-based systems, and protected by controlled access with Personal Identity Verification (PIV) cards, assigning user accounts to individuals needing access to the records and by passwords set by authorized users that must be changed periodically.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-10, Administrative Appeals File (last published at 81 FR 63307 (September 14, 2016)).

SYSTEM NAME AND NUMBER

PBGC-11: Call Detail Records—PBGC.

SECURITY CLASSIFICATION:

Unclassified.

SYSTEM LOCATION:

Pension Benefit Guaranty Corporation (PBGC), 1200 K Street NW, Washington, DC 20005. (Records may be kept at an additional location as backup for continuity of operations.)

SYSTEM MANAGER(S) AND ADDRESS:

Chief Information Officer, Office of Information Technology, PBGC, 1200 K Street NW, Washington, DC 20005.

AUTHORITY FOR MAINTENANCE OF THE SYSTEM:

29 U.S.C. 1302; 44 U.S.C. 3101; 5 U.S.C. 301.

PURPOSE(S) OF THE SYSTEM:

This system of records is used for Office of the Inspector General investigations and other special investigation requests.

CATEGORIES OF INDIVIDUALS COVERED BY THE SYSTEM:

PBGC employees, contractors, students and interns.

CATEGORIES OF RECORDS IN THE SYSTEM:

Records relating to the use of PBGC telephones and PBGC-issued portable electronic devices to place calls outside of PBGC and receive calls from outside of PBGC, and records indicating the assignment of telephone extension numbers and PBGC-issued portable electronic devices to PBGC employees.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1, G3, G4, G5, and G7 through G14 apply to this system of records (see Prefatory Statement of General Routine Uses).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: name of employee or contractor; telephone extension number; PBGC-issued portable electronic device number; or telephone number called.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

RECORD SOURCE CATEGORIES:

Telephone and PBGC-issued portable electronic device assignment records.

EXEMPTIONS PROMULGATED FOR THE SYSTEM:

None.

HISTORY:

PBGC-11, Call Detail Records (last published at 81 FR 63308 (September 14, 2016)).

SYSTEM NAME AND NUMBER

PBGC-12: Personnel Security Investigation Records—PBGC.

SECURITY CLASSIFICATION:

Unclassified.

SYSTEM LOCATION:

Pension Benefit Guaranty Corporation (PBGC), 1200 K Street NW, Washington, DC 20005 (Records may be kept at an additional location as backup for continuity of operations.)

SYSTEM MANAGER(S) AND ADDRESS:

Director, Human Resources Department, PBGC, 1200 K Street NW, Washington, DC 20005.

AUTHORITY FOR MAINTENANCE OF THE SYSTEM:

29 U.S.C. 1302; 5 U.S.C. 3301; 44 U.S.C. 3101; Executive Order 10450; Executive Order 10577; Executive Order 12968; Executive Order 13467; Executive Order 13488; 5 CFR 5.2; 5 CFR 731, 732 and 736; 5 CFR 1400; OMB Circular No. A-130 Revised, Appendix III, 61 FR 6428; Federal Information Processing Standard 201; Homeland Security Presidential Directive 12.

PURPOSE(S) OF THE SYSTEM:

The records in this system of records are used to document and support decisions as to the suitability, eligibility, and fitness for service of applicants for federal employment and contract positions, and may include students, interns, or vendors to the extent their duties require access to federal facilities, information, information systems, or applications.

The records may also be used to help streamline and make the background suitability investigations and adjudications processes more efficient.

The records additionally may be used to document security violations and supervisory actions taken in response to such violations.

CATEGORIES OF INDIVIDUALS COVERED BY THE SYSTEM:

Current and former applicants, employees, students, interns, government contractors, experts, instructors, vendors, and consultants to federal programs who undergo a personnel background investigation to determining suitability for employment, contractor employee fitness, credentialing for Homeland Security Presidential Directive 12, and/or access to PBGG facilities or information technology system. Individuals who have corresponded with PBGC regarding personnel security investigations. This system also includes individuals accused of or found in violation of PBGC's security rules and regulations.

CATEGORIES OF RECORDS IN THE SYSTEM:

Name; former names; date and place of birth; home address; email address; phone numbers; employment history; residential history; education and degrees citizenship; passport information; name, date and place of birth, social security number, and citizenship information for spouse or cohabitant; the name and marriage information for current and former spouse(s) or domestic partner, names of associates and references and their contact information; names, dates and places of birth, citizenship, and addresses of relatives; names of relatives who work for the federal government; information on foreign contacts and activities; association records; information on loyalty to the United States; criminal history; mental health history; drug use; financial information; photographs; personal identity verification (PIV) card information; information from the Internal Revenue Service (IRS) pertaining to income tax returns; credit reports; information pertaining to security clearances; other agency reports furnished to PBGC in connection with the background investigation process; summaries of personal and third party interviews conducted during the background investigation; results of suitability decisions; and additional records developed from above.

Records pertaining to security violations may contain information pertaining to circumstances of the violation; witness statements; investigator's notes; and documentation of agency action taken in response to security violations.

RECORD SOURCE CATEGORIES:

Applications and other personnel and security forms, including, but not limited to, SF-85, SF-85P, SF-86, SF-87; information from personal interviews with the applicant and various individuals, such as former employers, references, neighbors, and other associates who may have information about the subject of the investigation; investigative records and notices of personnel actions furnished by other federal agencies; public records such as court filings; publications such as newspapers, magazines, and periodicals; tax records; educational institutions; police departments; credit bureaus; probation officials; prison officials; and, medical professionals.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

2. A record, from which information is requested during an investigation from this system, may be disclosed to an authorized source (i.e., someone who has the legal authority to request such information, such as an investigator from the Office of Personnel Management National Background Investigations Bureau (NBIB), or the Office of the Inspector General) to the extent necessary to identify the individual, inform the source of the nature and purpose of the investigation, or identify the type of information requested.

3. A record from this system of records may be disclosed to the Office of Personnel Management, the Merit Systems Protection Board, the Federal Labor Relations Authority, or the Equal Employment Opportunity Commission to carry out its respective authorized functions (under 5 U.S.C. 1204, and 7105, and 42 U.S.C. 2000e-4).

4. To designated officers and employees of agencies, offices, and other establishments in the executive, legislative, and judicial branches of the Federal Government, having a need to evaluate qualifications, suitability, and loyalty to the United States Government and/or a security clearance or access determination.

5. To designated officers and employees of agencies, offices, and other establishments in the executive, legislative, and judicial branches of the Federal Government, when such agency, office, or establishment investigates an individual for purposes of granting a security clearance, or for the purpose of making a determination of qualifications, suitability, or loyalty to the United States Government, or access to classified information or restricted areas.

6. To designated officers and employees of agencies, offices, and other establishments in the executive, judicial, or legislative branches of the Federal Government, having the responsibility to grant clearances to make a determination regarding access to classified information or restricted areas, or to evaluate qualifications, suitability, or loyalty to the United States Government, in connection with performance of a service to the Federal Government under a contract or other agreement.

7. To U.S. intelligence agencies for use in intelligence activities.

8. To the appropriate federal, state, tribal, local, or other public authority responsible for investigating, prosecuting, enforcing, or implementing a statute, rule, regulation, or order where OPM becomes aware of an indication of a violation or potential violation of civil or criminal law or regulation.

9. To an agency, office, or other establishment in the executive, legislative, or judicial branches of the Federal Government, in response to its request, in connection with the hiring or retention of an employee, the issuance of a security clearance, the conducting of a security or suitability investigation of an individual, the classifying of jobs, the letting of a contract, or the issuance of a license, grant, or other benefit by the requesting agency, to the extent that the information is relevant and necessary to the requesting agency's decision on the matter.

10. To provide information to a congressional office from the record of an individual in response to an inquiry from the congressional office made at the request of that individual. However, to the extent these records may reveal the identity of an individual who has provided information pertaining to the investigation, the investigative file, or the parts thereof, are exempt from release. Further, requests for OPM records contained in this system will be referred to OPM.

11. To disclose information to contractors, experts, consultants, or students performing or working on a contract, service, or job for the PBGC.

12. To disclose results of investigations or individuals records to agencies, such as the Department of Labor, providing adjudicative support services to PBGC.

13. To provide criminal history record information to the FBI, to help ensure the accuracy and completeness of FBI and PBGC records.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: name; social security number; unique case serial number; or other unique identifier.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

Pursuant to 5 U.S.C. 552a(k)(2), records in this system are exempt from the requirements of subsections (c)(3), (d), (e)(1), (e)(4) (G), (H), (I), and (f) of 5 U.S.C. 552a, provided, however, that if any individual is denied any right, privilege, or benefit that he or she would otherwise be entitled to by federal law, or for which he or she would otherwise be eligible, as a result of the maintenance of these records, such material shall be provided to the individual, except to the extent that the disclosure of the material would reveal the identity of a source who furnished information to the Government with an express promise that the identity of the source would be held in confidence.

HISTORY:

PBGC-12, Personnel Security Investigation Records (last published at 81 FR 63309 (September 14, 2016)).

SYSTEM NAME AND NUMBER

PBGC-13: Debt Collection—PBGC.

SECURITY CLASSIFICATION:

Unclassified.

SYSTEM LOCATION:

Pension Benefit Guaranty Corporation (PBGC), 1200 K Street NW, Washington, DC 20005 and/or PBGC Field Offices (Field Benefit Administration), plan administrator, and paying agents worksites. (Records may be kept at an additional location as backup for continuity of operations.)

SYSTEM MANAGER(S) AND ADDRESS:

Director, Financial Operations Department, PBGC, 1200 K Street NW, Washington, DC 20005.

Chief of Benefits Administration, Office of Benefits Administration, PBGC, 1200 K Street NW, Washington, DC 20005.

AUTHORITY FOR MAINTENANCE OF THE SYSTEM:

29 U.S.C. 1302; 31 U.S.C. 3711(a); 44 U.S.C. 3101; 5 U.S.C. 301; Executive Order 13019.

PURPOSE(S) OF THE SYSTEM:

This system of records is maintained for the purpose of collecting debts owed to PBGC by various individuals, including, but not limited to, pension plans and/or sponsors owing insurance premiums, interest and penalties; PBGC employees and former employees; consultants and vendors; participants, alternate payees, and beneficiaries in retirement plans coming under the control or authority of the PBGC; and individuals who received payments from PBGC to which they are not entitled. This system facilitates PBGC's compliance with the Debt Collection Improvement Act of 1996.

CATEGORIES OF INDIVIDUALS COVERED BY THE SYSTEM:

Any individual who may owe a debt to PBGC, including but not limited to: pension plans and/or sponsors owing insurance premiums, interest, and penalties; employees and former employees of PBGC; individuals who are consultants and vendors to PBGC; participants, alternate payees, and beneficiaries in terminating and terminated defined benefit or defined contribution plans coming under the control or authority of the PBGC; and any individual who received payments to which they are not entitled.

CATEGORIES OF RECORDS IN THE SYSTEM:

Plan filings; names; addresses; social security numbers; taxpayer identification numbers; employee numbers; pay records; travel vouchers and related documents filed by PBGC employees; invoices filed by consultants and vendors to PBGC; records of benefit payments made to participants, alternate payees, and beneficiaries in plans covered by ERISA; and other relevant records relating to a debt including financial information, bank account numbers, the amount, status, and history of the debt, and the program under which the debt arose.

RECORD SOURCE CATEGORIES:

Subject individuals; plan administrators; labor organization officials; debt collection agencies or firms; firms or agencies providing locator services; PBGC Field Offices (Field Benefit Administration); and, other federal agencies.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

2. A record from this system of records may be disclosed to the United States Department of the Treasury for cross-servicing to effect debt collection in accordance with 31 U.S.C. 3711(e).

3. Names, addresses, and telephone numbers of employees, participants, beneficiaries, alternate payees and any other individual owing a debt to PBGC, and information pertaining to debts owed by such individuals to PBGC may be disclosed to a debt collection agency to collect a claim. Disclosure to a debt collection agency or firm shall be made only under a contract that binds any such contractor or employee of such contractor to the criminal penalties of the Privacy Act. The information so disclosed shall be used exclusively pursuant to the terms and conditions of such contract and shall be used solely for the purposes prescribed therein. The contract shall provide that the information so disclosed shall be returned at the conclusion of the debt collection effort.

4. These records may be used to disclose information to any federal agency, state or local agency, tribal governments, U.S. territory or commonwealth, or the District of Columbia, or their agents or contractors, including private collection agencies (consumer and commercial):

a. To facilitate the collection of debts through the use of any combination of various debt collection methods required or authorized by law, including, but not limited to:

i. Request for repayment by telephone or in writing;

ii. Negotiation of voluntary repayment or compromise agreements;

iii. Offset of federal payments, which may include the disclosure of information contained in the records for the purpose of providing the debtor with appropriate pre-offset notice and to otherwise comply with offset prerequisites, to facilitate voluntary repayment in lieu of offset, and to otherwise effectuate the offset process;

iv. Referral of debts to private collection agencies, to Treasury designated debt collection centers, or for litigation;

v. Administrative and court-ordered wage garnishment;

vi. Debt sales;

vii. Publication of names and identities of delinquent debtors in the media or other appropriate news or websites; and

viii. Any other debt collection method authorized by law;

b. To collect a debt owed to the United States through the offset of payments made by states, territories, commonwealths, tribal governments, or the District of Columbia;

c. To account or report on the status of debts for which such entity has a financial or other legitimate need for the information in the performance of official duties; or,

d. For any other appropriate debt collection purpose.

5. A record from this system may be disclosed to a consumer reporting agency in accordance with 31 U.S.C. 3711(e).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: employer identification number; social security number; customer identification number; plan number; recovery tracking number; name of debtor, plan, plan sponsor, plan administrator, participant, alternate payee, or beneficiary.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None

HISTORY:

PBGC-13, Debt Collection (last published at 81 FR 63311 (September 14, 2016)).

SYSTEM NAME

PBGC-14: My Plan Administration Account Records—PBGC.

SECURITY CLASSIFICATION:

Unclassified.

SYSTEM LOCATION:

Pension Benefit Guaranty Corporation (PBGC), 1200 K Street NW, Washington, DC 20005. (Records may be kept at an additional location as backup for continuity of operations.)

SYSTEM MANAGER(S) AND ADDRESS:

Director, Financial Operations Department, PBGC, 1200 K Street NW, Washington, DC 20005.

AUTHORITY FOR MAINTENANCE OF THE SYSTEM:

29 U.S.C. 1302, 1306, and 1343; 44 U.S.C. 3101; 5 U.S.C. 301;44 U.S.C. 3601, et seq.

PURPOSE(S) OF THE SYSTEM:

This system of records is maintained for use in verifying the identity of individuals who register to use the My PAA application to make PBGC filings, and receiving, authenticating, processing, and keeping a history of filings and premium payments submitted to PBGC by registered users. Information from this system is used to provide the public with contact information for plan sponsors, plan administrators, pension practitioners, actuaries and pension benefit professionals who submit plan information through My PAA.

CATEGORIES OF INDIVIDUALS COVERED BY THE SYSTEM:

Individuals who use the My Plan Administration Account (My PAA) application to make PBGC filings and payments electronically via PBGC's website (www.pbgc.gov), including individuals acting for plan sponsors, plan administrators, pension practitioners, actuaries, pension benefit professionals.

CATEGORIES OF RECORDS IN THE SYSTEM:

User name; work telephone number; work email address; other contact information; a temporary PBGC-issued user ID and password; a user-selected user ID and password; a secret question/secret answer combination for authentication; IP addresses; cookies (session and persistent); financial information; taxpayer identification number; bank information; for each pension plan for which the user intends to participate in making filings with PBGC: the plan name; employer identification number; plan number; the plan administrator's name, address, phone number, email address, and other contact information; and the role that the user will play in the filing process, e.g., creating and editing filings, signing filings electronically as the plan administrator, signing filings electronically as the enrolled actuary, or authorizing payments to PBGC.

RECORD SOURCE CATEGORIES:

Registered users.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1, G4 through G7, G9, G10, and G12 through G14 apply to this system of records (see Prefatory Statement of General Routine Uses).

2. Names, addresses and phone numbers of plan sponsors, plan administrators, pension practitioners, actuaries and pension benefit professionals who submit plan information to My PAA may be disclosed to the public in order to ensure the public has access to contact information for those individuals submitting information regarding pension plans and those responsible for the administration of pension plans covered by the Employee Retirement Income Security Act of 1974 (ERISA).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: Name; user ID; email address; telephone number; plan name; EIN; or plan number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None

HISTORY:

PBGC-14, My Plan Administration Account Records (last published at 81 FR 63312 (September 14, 2016)).

SYSTEM NAME AND NUMBER

PBGC-15: Emergency Notification Records—PBGC.

SECURITY CLASSIFICATION:

Unclassified.

SYSTEM LOCATION:

Pension Benefit Guaranty Corporation (PBGC), 1200 K Street NW, Washington, DC 20005. (Records may be kept at an additional location as backup for continuity of operations.)

SYSTEM MANAGER(S) AND ADDRESS:

Director, Workplace Solutions Department, PBGC, 1200 K Street NW, Washington, DC 20005.

AUTHORITY FOR MAINTENANCE OF THE SYSTEM:

29 U.S.C. 1302; 44 U.S.C. 3101; 5 U.S.C. 301; Executive Order 12656.

PURPOSE(S) OF THE SYSTEM:

This system of records is maintained for notifying PBGC employees, students, interns, and contractors of PBGC's operating status in the event of an emergency, natural disaster or other event affecting PBGC operations; and for contacting employees, students, interns, and contractors who are out of the office on leave or after regular duty hours to obtain information necessary for official business.

CATEGORIES OF INDIVIDUALS COVERED BY THE SYSTEM:

PBGC employees, students, interns, and individuals who work for PBGC as contractors or as employees of contractors.

CATEGORIES OF RECORDS IN THE SYSTEM:

Name; title; organizational component; employer; PBGC and personal telephone numbers; PBGC and personal email addresses; other contact information; user ID; a temporary PBGC-issued password; and a user-selected password.

RECORD SOURCE CATEGORIES:

Subject individuals.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1, G4, G5, G7, G9 through G11, G13, and G14 apply to this system of records (see Prefatory Statement of General Routine Uses).

2. A record in this system of records may be disclosed to family members, emergency medical personnel, or to law enforcement officials in case of a medical or other emergency involving the subject individual (without the subsequent notification prescribed in 5 U.S.C. 552a(b)(8)).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: Name; organizational component; or user ID and password.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-15, Emergency Notification Records (last published at 81 FR 63313 (September 14, 2016)).

SYSTEM NAME AND NUMBER

PBGC-16: PBGC Connect Search Center—PBGC.

SECURITY CLASSIFICATION:

Unclassified.

SYSTEM LOCATION:

Pension Benefit Guaranty Corporation (PBGC), 1200 K Street NW, Washington, DC 20005. (Records may be kept at an additional location as backup for continuity of operations.)

SYSTEM MANAGER(S) AND ADDRESS:

Division Manager, Information Technology Customer and Operations Service Division, PBGC, 1200 K Street NW, Washington, DC 20005.

AUTHORITY FOR MAINTENANCE OF THE SYSTEM:

29 U.S.C. 1302; 44 U.S.C. 3101; 5 U.S.C. 301.

PURPOSE(S) OF THE SYSTEM:

This system of records is used by PBGC employees, interns and contractors to identify other PBGC employees, interns and contractors; and, to access contact information for PBGC employees, interns and contractors.

CATEGORIES OF INDIVIDUALS COVERED BY THE SYSTEM:

PBGC employees and contractors with PBGC network access.

CATEGORIES OF RECORDS IN THE SYSTEM:

Name; photograph; personal description; skills; interests; schools; birthday; mobile phone number; home phone number; organizational component and title; supervisor's name; PBGC street address; room or workstation number; PBGC network ID; work email address; and work telephone number and extension.

RECORD SOURCE CATEGORIES:

Subject individuals and PBGC personnel records.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: name; username; organizational component; job title; work phone number; office number; supervisor; work email; skills; interests; birth date; education; peers; and employee type (federal or contractor).

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS ROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-16, Employee Online Directory (last published at 81 FR 63314 (September 14, 2016)).

SYSTEM NAME AND NUMBER

PBGC-17: Office of Inspector General Investigative File System—PBGC.

SECURITY CLASSIFICATION:

Unclassified.

SYSTEM LOCATION:

Office of Inspector General, Pension Benefit Guaranty Corporation (PBGC), 1200 K Street NW, Washington, DC 20005. (Records may be kept at an additional location as backup for continuity of operations.)

SYSTEM MANAGER(S) AND ADDRESS:

Office of the Inspector General, PBGC, 1200 K Street NW, Washington, DC 20005.

AUTHORITY FOR MAINTENANCE OF THE SYSTEM:

5 U.S.C. App. 3.

PURPOSE(S) OF THE SYSTEM:

This system of records is used to supervise and conduct investigations relating to programs and operations of PBGC by the Inspector General.

CATEGORIES OF INDIVIDUALS COVERED BY THE SYSTEM:

Individuals named in investigations conducted by the Office of Inspector General (OIG); complainants and subjects of complaints collected through the operation of the OIG Hotline; other individuals, including witnesses, sources, and members of the general public who are named individuals in connection with investigations conducted by OIG.

CATEGORIES OF RECORDS IN THE SYSTEM:

Information within this system relates to OIG investigations carried out under applicable statutes, regulations, policies, and procedures. The investigations may relate to criminal, civil, or administrative matters. These OIG files may contain investigative reports; transcripts; internal staff memoranda; working drafts of papers to PBGC employees; investigative plans; litigation strategies; copies of personnel, financial, contractual, and property management records maintained by PBGC; information submitted by or about pension plan sponsors or plan participants; background data including arrest records, statements of informants and witnesses, and laboratory reports of evidence analysis; information and documentation received from other government agencies; search warrants, summonses and subpoenas; and other information related to investigations. Personal data in the system may consist of names, social security numbers, addresses, dates of birth and death, fingerprints, handwriting samples, reports of confidential informants, physical identifying data, voiceprints, polygraph tests, photographs, and individual personnel and payroll information.

RECORD SOURCE CATEGORIES:

Subject individuals; individual complainants; witnesses; interviews conducted during investigations; federal, state, tribal, and local government records; individual or company records; claim and payment files; employer medical records; insurance records; court records; articles from publications; financial data; bank information; telephone data; service providers; other law enforcement organizations; grantees and sub-grantees; contractors and subcontractors; pension plan sponsors and participants; and other sources.

ROUTINE USES OF RECORDS MAINTAINED IN THE SYSTEM, INCLUDING CATEGORIES OF USERS AND THE PURPOSES OF SUCH USES:

Information about covered individuals may be disclosed without consent as permitted by the Privacy Act of 1974, 5 U.S.C. 552a(b) and:

1. General Routine Uses G1, G2, G4, G5, G7, and G9 through G14 apply to this system of records (see Prefatory Statement of General Routine Uses).

2. A record relating to a person held in custody pending or during arraignment, trial, sentence, or extradition proceedings or after conviction may be disclosed to a federal, state, local, tribal or foreign prison; probation, parole, or pardon authority; or any other agency or individual involved with the maintenance, transportation, or release of such a person.

3. A record relating to a case or matter may be disclosed to an actual or potential party or his or her attorney for the purpose of negotiation or discussion on such matters as settlement of the case or matter, plea bargaining, or informal discovery proceedings.

4. A record may be disclosed to any source, either private or governmental, when reasonably necessary to elicit information or obtain the cooperation of a witness or informant when conducting any official investigation or during a trial or hearing or when preparing for a trial or hearing.

5. A record relating to a case or matter may be disclosed to a foreign country, through the United States Department of State or directly to the representative of such country, under an international treaty, convention, or executive agreement; or to the extent necessary to assist such country in apprehending or returning a fugitive to a jurisdiction that seeks that individual's return.

6. A record originating exclusively within this system of records may be disclosed to other federal offices of inspectors general and councils comprising officials from other federal offices of inspectors general, as required by the Inspector General Act of 1978, as amended. The purpose is to ensure that OIG investigative operations can be subject to integrity and efficiency peer reviews, and to permit other offices of inspectors general to investigate and report on allegations of misconduct by senior OIG officials as directed by a council, the President, or Congress. Records originating from any other PBGC systems of records, which may be duplicated in or incorporated into this system, also may be disclosed with all identifiable information redacted.

7. A record may be disclosed to the Department of the Treasury and the Department of Justice when the OIG seeks an ex parte court order to obtain taxpayer information from the Internal Revenue Service.

8. A record may be disclosed to any governmental, professional or licensing authority when such record reflects on qualifications, either moral, educational or vocational, of an individual seeking to be licensed or to maintain a license.

9. A record may be disclosed to any direct or indirect recipient of federal funds, e.g., a contractor, where such record reflects problems with the personnel working for a recipient, and disclosure of the record is made to permit a recipient to take corrective action beneficial to the Government.

10. A record may be disclosed where there is an indication of a violation or a potential violation of law, rule, regulation or order whether civil, criminal, administrative or regulatory in nature, to the appropriate agency, whether federal, state, tribal or local, or to a securities self-regulatory organization, charged with enforcing or implementing the statute, or rule, regulation or order.

11. A record may be disclosed to federal, state, tribal or local authorities in order to obtain information or records relevant to an Office of Inspector General investigation or inquiry.

12. A record may be disclosed to a bar association, state accountancy board, or other federal, state, tribal, local, or foreign licensing or oversight authority; or professional association or self-regulatory authority to the extent that it performs similar functions (including the Public Company Accounting Oversight Board) for investigations or possible disciplinary action.

13. A record may be disclosed to inform complainants, victims, and witnesses of the results of an investigation or inquiry.

14. To the Department of Justice for the purpose of obtaining advice on investigatory matters or in order to refer information for the purpose of prosecution.

15. To contractors, interns and experts who have been engaged to assist in an OIG investigation or in the performance of a service related to this system of records and require access to these records for the purpose of assisting the OIG in the efficient administration of its duties. All recipients of these records shall be required to comply with the requirements of the Privacy Act of 1974, as amended.

16. To the public when the matter under investigation has become public knowledge, or when the Inspector General determines that such disclosure is necessary to preserve confidence in the integrity of the OIG investigative process, to demonstrate the accountability of PBGC employees, or other individuals covered by this system, or when there exists a legitimate public interest, unless the Inspector General has determined that disclosure of specific information would constitute an unwarranted invasion of personal privacy.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records may be retrieved by any one or more of the following: name; social security number; subject category; or assigned case number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

This system is exempt from the notification and record access requirements. However, consideration will be given to requests made in compliance with 29 CFR 4902.3 and 4902.4.

CONTESTING RECORD PROCEDURES:

This system is exempt from amendment requirements. However, consideration will be given requests made in compliance with 29 CFR 4902.3 and 4902.5.

NOTIFICATION PROCEDURES:

This system is exempt from the notification requirements. However, consideration will be given to inquiries made in compliance with 29 CFR 4902.3.

EXEMPTIONS PROMULGATED FOR THE SYSTEM:

Pursuant to 5 U.S.C. 552a(j) and (k), PBGC has established regulations at 29 CFR 4902.11 that exempt records in this system depending on their purpose.

HISTORY:

PBGC-17, Inspector General Investigative File System (last published at 81 FR 63315 (September 14, 2016)).

SYSTEM NAME AND NUMBER

PBGC-19: Office of General Counsel Case Management System — PBGC

SECURITY CLASSIFICATION:

Unclassified.

SYSTEM LOCATION:

Pension Benefit Guaranty Corporation (PBGC), 1200 and 1275 K Street NW, Washington, DC 20005. (Records may be kept at an additional location as backup for continuity of operations.)

SYSTEM MANAGER(S) AND ADDRESS:

Office of the General Counsel, PBGC, 1200 K Street NW, Washington, DC 20005.

AUTHORITY FOR MAINTENANCE OF THE SYSTEM:

29 U.S.C. 1055, 1056(d)(3), 1302, 1303, 1310, 1321, 1322a, 1341, 1342, 1343 and 1350; 5 U.S.C. app. 105; 5 U.S.C. 301, 552(a), 552a(d), 7101; 42 U.S.C. 2000e, et seq.; 44 U.S.C. 3101.

PURPOSE(S) OF THE SYSTEM:

The purpose of this system of records is to catalog, litigate, review or otherwise resolve any case or matter handled by the OGC.

CATEGORIES OF INDIVIDUALS COVERED BY THE SYSTEM:

Individuals who are participants, beneficiaries, and alternate payees in pension plans covered by the Employee Retirement Income Security Act of 1974 (ERISA), 29 U.S.C. 1301, et seq.; pension plan sponsors, administrators, control group members and third parties, who are responsible for, manage, or have control over ERISA pension plans; other individuals who are identified in connection with investigations conducted pursuant to 29 U.S.C. 1303 or litigation conducted with regard to ERISA pension plans; individuals (including PBGC employees) who are parties or witnesses in civil litigation or administrative proceedings involving or concerning PBGC or its officers or employees; individuals who are the subject of a breach of personally identifiable information; individuals who are potential contractors or contractors with PBGC or are otherwise personally associated with a contract or procurement matter; individuals who receive legal advice from the Office of General Counsel (OGC); and other individuals (including current, former, and potential PBGC employees, contract employees, interns, and externs) who are the subject of or are otherwise connected to an inquiry, investigation, other matter handled by the OGC.

CATEGORIES OF RECORDS IN THE SYSTEM:

Draft and final versions of notes, reports, memoranda; settlements; legal opinions; agreements; correspondence; contracts; contract proposals and other procurement documents; plan documents; participant, alternate payee, and beneficiary files; initial and final PBGC determinations of ERISA matters; Freedom of Information Act (FOIA) and the Privacy Act of 1974 disclosures, determinations, appeals and decisions of those appeals; records and information obtained from other federal, state, tribal, and local agencies and departments, including, but not limited to: Office of Personnel Management, Social Security Administration, Department of Treasury and Department of Justice; drafts and legal reviews of proposed personnel actions; ethics inquiries; personnel records; financial records; individual tax returns; litigation files; labor relations files; information provided by labor unions or other organizations; witness statements; summonses, subpoenas, discovery requests and responses; and, breach reports and supporting documentation.

RECORD SOURCE CATEGORIES:

Subject individuals; pension plan participants, sponsors, administrators and third-parties; federal government records; current and former employees, contractors, interns, and externs; PBGC debt and disbursement records; insurers; the Social Security Administration; labor organizations; court records; articles from publications; and other individuals, organizations, and corporate entities with relevant knowledge/information.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

2. A record from this system of records may be disclosed, in furtherance of proceedings under Title IV of ERISA, to a contributing sponsor (or other employer who maintained the plan), including any predecessor or successor, and any member of the same control group.

3. Names, addresses, and telephone numbers of employees, former employees, participants, and beneficiaries and information pertaining to debts to PBGC may be disclosed to the Department of Treasury, the Department of Justice, a credit agency, and a debt collection to collect the debt. Disclosure to a debt collection shall be made only under a contract that binds any such contractor or employee of such contractor to criminal penalties of the Privacy Act.

4. Information may be disclosed to a court, magistrate, or administrative tribunal in the course of presenting evidence, including disclosures to opposing counsel or witnesses in the course of civil discovery, litigation, or settlement negotiations in response to a court order or in connection with criminal law proceedings.

5. Information may be provided to a congressional office in response to an inquiry made at the request of the individual to whom the record pertains.

6. Information may be provided to third parties during the course of an investigation to the extent necessary to obtain information pertinent to the investigation.

7. Relevant and necessary information may be disclosed to a former employee of PBGC for the purposes of: (1) Responding to an official inquiry by federal, state, tribal or local government entity or professional licensing authority; or, (2) facilitating communications with a former employee that may be necessary for personnel-related or other official purposes where PBGC requires information and/or consultation assistance from the former employee regarding a matter within that person's former area of responsibility.

8. A record relating to a case or matter may be disseminated to a foreign country pursuant to an international treaty or convention entered into and ratified by the United States or to an executive agreement.

9. A record may be disseminated to a foreign country, through the United States Department of State or directly to the representative of such country, to the extent necessary to assist such country in civil or criminal proceedings in which the United States or one of its officers or agencies has an interest.

10. A record from this system of records may be disclosed to the National Archives and Records Administration (NARA), Office of Government Information Services (OGIS), to the extent necessary to fulfill its responsibilities in 5 U.S.C. 552(h), to review administrative agency policies, procedures and compliance with the FOIA, and to facilitate use of OGIS' mediation services.

11. A record from this system may be disclosed to a consumer reporting agency in accordance with 31 U.S.C. 3711(e).

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are indexed by assigned case number and sequential record identifier. Records are full-text indexed and information from this system may be retrieved using any free-form key, which may include names, social security number, address, representative or any other personal identifiers. For certain systems, only individuals assigned to the particular matter may retrieve associated records.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals. Paper records are kept in file folders in areas of restricted access that are locked after office hours.

Electronic records are stored on computer networks, which may include cloud-based systems, and protected by controlled access with Personal Identity Verification (PIV) cards, assigning user accounts to individuals needing access to the records and by passwords set by authorized users that must be changed periodically. Further, for certain systems covered by this notice, heightened security access is required. Such access is granted by the specific permissions group assigned to monitor that particular system and only authorized employees of the agency may retrieve, review or modify those records.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

Pursuant to 5 U.S.C. 552a(k)(2), records in this system are exempt from the requirements of subsections (c)(3), (d), (e)(1), (e)(4) (G), (H), (I), and (f) of 5 U.S.C. 552a, provided, however, that if any individual is denied any right, privilege, or benefit that he or she would otherwise be entitled to by federal law, or for which he or she would otherwise be eligible, as a result of the maintenance of these records, such material shall be provided to the individual, except to the extent that the disclosure of the material would reveal the identity of a source who furnished information to the Government with an express promise that the identity of the source would be held in confidence.

HISTORY:

PBGC-19, Office of General Counsel Case Management System (last published at 81 FR 63316 (September 14, 2016)).

SYSTEM NAME AND NUMBER

PBGC-21: Reasonable Accommodation Records—PBGC System.

SECURITY CLASSIFICATION:

Unclassified.

SYSTEM LOCATION:

Pension Benefit Guaranty Corporation, 1200 K Street NW, Washington, DC 20005. (Records may be kept at an additional location as backup for continuity of operations.)

SYSTEM MANAGER(S) AND ADDRESS:

Reasonable Accommodations Coordinator, Human Resources Department, PBGC, 1200 K Street NW, Washington, DC 20005.

AUTHORITY FOR MAINTENANCE OF THE SYSTEM:

29 U.S.C. 1302; 44 U.S.C. 3101; 5 U.S.C. 301; 29 U.S.C. 701 et seq.; 29 U.S.C. 791; 42 U.S.C. 12101 et seq.; 42 U.S.C. Ch. 126; 29 CFR part 1630; Executive Order 13164 (July 26, 2000); and Executive Order 13548 (July 26, 2010).

PURPOSE(S) OF THE SYSTEM:

The purposes of this system are: (1) To allow PBGC to collect and maintain records on prospective, current, and former employees with disabilities who requested or received reasonable accommodation by PBGC; (2) to track and report the processing of requests for reasonable accommodation PBGC-wide to comply with applicable law and regulations; and (3) to and maintain the confidentiality of medical information submitted by or on behalf of applicants or employees requesting reasonable accommodation.

CATEGORIES OF INDIVIDUALS COVERED BY THE SYSTEM:

Prospective, current, and former employees of PBGC who request and/or receive a reasonable accommodation for a disability; and, authorized individuals or representatives (e.g., family members, union representatives, or attorneys) who submit a request for a reasonable accommodation on behalf of a prospective, current, or former employee.

CATEGORIES OF RECORDS IN THE SYSTEM:

Name and employment information of current or prospective employee needing an accommodation; requester's name and contact information (if different than the employee who needs an accommodation); date request was initiated; information concerning the nature of the disability and the need for accommodation, including appropriate medical documentation; occupational series; pay grade; essential duties of the position; details of the accommodation request, such as: Type of accommodation requested, how the requested accommodation would assist in job performance, the sources of technical assistance consulted in trying to identify alternative reasonable accommodation, any additional information provided by the requester relating to the processing of the request, whether the request was approved or denied, whether the accommodation was approved for a trial period; and, documentation between the employee and his/her supervisor(s) regarding the accommodation.

RECORD SOURCE CATEGORIES:

Subject individuals; individual making the request (if different than the subject individuals); medical professionals; and the subject individuals' supervisor(s).

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

2. A record from this system may be disclosed to physicians or other medical professionals to provide them with or obtain from them the necessary medical documentation and/or certification for reasonable accommodation.

3. A record from this system may be disclosed to another federal agency or commission with responsibility for labor or employment relations or other issues, including equal employment opportunity and reasonable accommodation issues, when that agency or commission has jurisdiction over reasonable accommodation issues.

4. A record from this system may be disclosed to the Office of Management and Budget (OMB), Department of Labor (DOL), Office of Personnel Management (OPM), Equal Employment Opportunity Commission (EEOC), or Office of Special Counsel (OSC) to obtain advice regarding statutory, regulatory, policy, and other requirements related to reasonable accommodation.

5. A record from this system may be disclosed to appropriate third-parties contracted by the Agency to facilitate mediation or other dispute resolution procedures or programs.

6. A record from this system may be disclosed to the Department of Defense (DOD) for purposes of procuring assistive technologies and services through the Computer/Electronic Accommodation Program in response to a request for reasonable accommodation.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: Employee name or assigned case number.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA. Records existing on paper are destroyed beyond recognition.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4 or to amend records pertaining to themselves in accordance with 29 CRF 4902.5, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-21, Reasonable Accommodation Records (last published at 81 FR 63317 (September 14, 2016)).

SYSTEM NAME AND NUMBER

PBGC-22: Telework and Alternative Worksite Records—PBGC.

SECURITY CLASSIFICATION:

Unclassified.

SYSTEM LOCATION:

Pension Benefit Guaranty Corporation (PBGC), 1200 K Street NW, Washington, DC 20005. (Records may be kept at an additional location as backup for continuity of operations.)

SYSTEM MANAGER(S) AND ADDRESS:

Telework Managing Officer, Human Resources Department, PBGC, 1200 K Street NW, Washington, DC 20005.

AUTHORITY FOR MAINTENANCE OF THE SYSTEM:

29 U.S.C. 1302; 44 U.S.C. 3101; 5 U.S.C. 301; 5 U.S.C. 6120.

PURPOSE(S) OF THE SYSTEM:

The purpose of this system of records is to collect and maintain records on current and former employees who have participated in, presently participate in, or have sought to participate in PBGC's Telework Program.

CATEGORIES OF INDIVIDUALS COVERED BY THE SYSTEM:

Current and former employees of PBGC who have requested to participate in PBGC's Telework Program in order to work at an alternative worksite other than their official PBGC duty station.

CATEGORIES OF RECORDS IN THE SYSTEM:

Name, position title, grade, series, and department name; official PBGC duty station address and telephone number; alternative worksite address and telephone number(s); date telework agreement received and approved/denied; telework request and approval form; telework agreement, self-certification home safety checklist, and supervisor-employee checklist; type of telework requested (e.g., episodic or regular); regular work schedule; telework schedule; approvals/disapprovals; description and list of government-owned equipment and software provided to the teleworker; mass transit benefits received through PBGC's mass transit subsidy program; parking subsidies received through PBGC's subsidized parking program; license plate information; driver's license; and any other miscellaneous documents supporting telework.

RECORD SOURCE CATEGORIES:

Subject individuals; subject individuals' supervisors.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

2. A record from this system may be disclosed to federal, state, tribal or local governments during actual emergencies, exercises, or continuity of operations tests for the purposes of emergency preparedness and responding to emergency situations.

3. A record from this system may be disclosed to the Department of Labor when an employee is injured when working at home while in the performance of normal duties.

4. A record from this system may be disclosed to the Office of Personnel Management (OPM) for use in its Telework Survey to provide consolidated data on participation in PBGC's Telework Program.

5. A record from this system of records may be disclosed to appropriate third-parties contracted by the Agency to facilitate mediation or other dispute resolution procedures or programs.

POLICIES AND PRACTICES FOR STORAGE OF RECORDS:

Records are maintained manually in paper and/or electronic form (including computer databases). Records may also be maintained on back-up tapes, or on a PBGC or a contractor-hosted network. Also, each of PBGC's departments has a Telework Liaison who may maintain copies of the records pertaining to employees working in his or her department.

POLICIES AND PRACTICES FOR RETRIEVAL OF RECORDS:

Records may be retrieved by any one or more of the following: Employee name, and the department in which the employee works, will work, or previously worked.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

PBGC-22, Telework and Alternative Worksite Records (last published at 81 FR 63319 (September 14, 2016)).

SYSTEM NAME AND NUMBER

PBGC-23: Internal Investigations of Allegations of Harassing Conduct—PBGC.

SECURITY CLASSIFICATION:

Unclassified.

SYSTEM LOCATION:

Pension Benefit Guaranty Corporation (PBGC), 1200 K Street NW, Washington, DC 20005. (Records may be kept at an additional location as backup for continuity of operations.)

SYSTEM MANAGER(S) AND ADDRESS:

Director, Human Resources Department, PBGC, 1200 K Street NW, Washington, DC 20005.

AUTHORITY FOR MAINTENANCE OF THE SYSTEM:

29 U.S.C. 1302; 44 U.S.C. 3101; 5 U.S.C. 301; 42 U.S.C. 2000e, et seq.

PURPOSE(S) OF THE SYSTEM:

This system of records is maintained for the purpose of upholding PBGC's policy to prevent and eradicate harassing conduct in the workplace, including conducting and resolving internal investigations of allegations of harassing conduct brought by or against PBGC employees, contractors or interns.

CATEGORIES OF INDIVIDUALS COVERED BY THE SYSTEM:

Current or former PBGC employees, contractors, and interns who have filed a complaint, made a report of harassment, or have been accused of harassing conduct.

CATEGORIES OF RECORDS IN THE SYSTEM:

The system contains all documents related to a complaint or report of harassment, which may include the name, position, grade, and supervisor(s) of the complainant and the accused; the complaint; statements of witnesses; reports of interviews; medical records; final decisions and corrective actions taken; and related correspondence and exhibits.

RECORD SOURCE CATEGORIES:

Subject individuals; PBGC supervisors, employees, contractors, and others with knowledge; outside counsel retained by subject individuals; and medical professionals.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

2. Disclosure of information from this system of records regarding the status of any investigation that may have been conducted may be made to the complaining party and to the individual against whom the complaint was made when the purpose of the disclosure is both relevant and necessary and is compatible with the purpose for which the information was collected.

POLICIES AND PRACTICES FOR STORAGE OF RECORDS:

Records are maintained manually in paper and/or electronic form (including computer databases or discs). Records may also be maintained on back-up tapes, or on a PBGC or a contractor-hosted network.

POLICIES AND PRACTICES FOR RETRIEVAL OF RECORDS:

Records are retrieved by any one or more of the following: Name; department; or unique identifier assigned to each incident reported.

POLICIES AND PRACTICES FOR RETENTION AND DISPOSAL OF RECORDS:

Records are maintained and destroyed in accordance with the National Archives and Record Administration's (NARA) Basic Laws and Authorities (44 U.S.C. 3301, et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Paper records are kept in cabinets in areas of restricted access that are locked after office hours. Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

Pursuant to 5 U.S.C. 552a(k)(2), records in this system are exempt from the requirements of subsections (c)(3), (d), (e)(1), (e)(4)(G), (H), (I), and (f) of 5 U.S.C. 552a, provided, however, that if any individual is denied any right, privilege, or benefit that he or she would otherwise be entitled to by federal law, or for which he or she would otherwise be eligible, as a result of the maintenance of these records, such material shall be provided to the individual, except to the extent that the disclosure of the material would reveal the identity of a source who furnished information to the Government with an express promise that the identity of the source would be held in confidence.

HISTORY:

PBGC-23, Internal Investigations of Allegations of Harassing Conduct (last published at 81 FR 63320 (September 14, 2016)).

SYSTEM NAME AND NUMBER

PBGC-24: Participant Debt Collection—PBGC

[RESCINDED]

SYSTEM NAME AND NUMBER

PBGC-25: PBGC.GOV Comment Management System—PBGC.

SECURITY CLASSIFICATION:

Unclassified.

SYSTEM LOCATION:

Pension Benefit Guaranty Corporation (PBGC), 1200 K Street NW, Washington, DC 20005. (Records may be kept at an additional location as backup for continuity of operations.)

SYSTEM MANAGER(S) AND ADDRESS:

Division Manager, Communications Outreach and Legislative Affairs Department, PBGC, 1200 K Street NW, Washington, DC 20005.

AUTHORITY FOR MAINTENANCE OF THE SYSTEM:

29 U.S.C. 1302; 44 U.S.C. 3101; 44 U.S.C. Ch 36; 5 U.S.C. 301; 40 U.S.C. Subchapter II.

PURPOSE(S) OF THE SYSTEM:

The information in this system is maintained to: provide a central location to search, view, download and comment on federal rulemaking documents; respond to the public's comments; track regulatory feedback; and, retain commenter information in order to respond to the public.

CATEGORIES OF INDIVIDUALS COVERED BY THE SYSTEM:

Any individual commenting on PBGC's rulemaking activities or submitting supporting materials; any individual initiating contact with the PBGC through use of the agency website.

CATEGORIES OF RECORDS IN THE SYSTEM:

Comments and supporting documentation from the public (may include name, email address, physical address, phone numbers, PBGC customer identification numbers, Social Security numbers, dates of birth, dates of hire, dates of termination, marital status, pay status); agency rulemaking materials; Federal Register publications; scientific and financial studies; IP information; cookies (session and persistent); and, internet protocol (IP) addresses.

RECORD SOURCE CATEGORIES:

Individuals commenting on agency rulemaking; individuals contacting PBGC via the agency website.

ROUTINE USES OF RECORDS MAINTAINED IN THE SYSTEM, INCLUDING CATEGORIES OF USERS AND THE PURPOSES OF SUCH USES:

Information about covered individuals may be disclosed without consent as permitted by the Privacy Act of 1974, 5 U.S.C. 522a(b), and:

1. General Routine Uses G1 through G14 apply to this system of records (see Prefatory Statement of General Routine Uses).

2. Information, including personally identifiable information (PII), contained in comments about agency rulemaking, whether submitted through pbgc.gov or regulations.gov, may be published to the PBGC website.

POLICIES AND PRACTICES FOR STORAGE OF RECORDS:

Records are maintained in electronic form (including computer databases or discs). Records may also be maintained on back-up tapes, or on a PBGC or a contractor-hosted network.

POLICIES AND PRACTICES FOR RETRIEVAL OF RECORDS:

Information from this system may be retrieved by numerous data elements and key word searches, including, but not limited to name, dates, subject, and other information retrievable with full-text searching capability.

POLICIES AND PRACTICES FOR RETENTION AND DISPOSAL OF RECORDS:

Records are maintained and destroyed in accordance with the National Archives and Record Administration's (NARA) Basic Laws and Authorities (44 U.S.C. 3301, (et seq.) or a PBGC records disposition schedule approved by NARA.

ADMINISTRATIVE, TECHNICAL, AND PHYSICAL SAFEGUARDS:

PBGC has established security and privacy protocols that meet the required security and privacy standards issued by the National Institute of Standards and Technology (NIST). Records are maintained in a secure, password protected electronic system that utilizes security hardware and software to include multiple firewalls, active intruder detection, and role-based access controls. PBGC has adopted appropriate administrative, technical, and physical controls in accordance with PBGC's security program to protect the confidentiality, integrity, and availability of the information, and to ensure that records are not disclosed to or accessed by unauthorized individuals.

Electronic records are stored on computer networks, which may include cloud-based systems, and protected by controlled access with Personal Identity Verification (PIV) cards, assigning user accounts to individuals needing access to the records and by passwords set by authorized users that must be changed periodically.

RECORD ACCESS PROCEDURES:

Individuals, or third parties with written authorization from the individual, wishing to request access to their records in accordance with 29 CFR 4902.4, should submit a written request to the Disclosure Officer, PBGC, 1200 K Street NW, Washington, DC 20005, providing their name, address, date of birth, and verification of their identity in accordance with 29 CFR 4902.3(c).

CONTESTING RECORD PROCEDURES:

Individuals, or third parties with written authorization from the individual, wishing to amend their records must submit a written request identifying the information they wish to correct in their file, in addition to following the requirements of the Record Access Procedure above.

NOTIFICATION PROCEDURES:

Individuals, or third parties with written authorization from the individual, wishing to learn whether this system of records contains information about them should submit a written request to the Disclosure Officer, PBGC, 1200 K Street NW, Washington, DC 20005, providing their name, address, date of birth, and verification of their identity in accordance with 29 CFR 4902.3(c).

EXEMPTIONS PROMULGATED FOR THE SYSTEM:

None.

HISTORY:

None.

[FR Doc. 2018-02882 Filed 2-12-18; 8:45 am]

BILLING CODE 7709-02-P